DEPARTMENT OF HOUSING AND URBAN DEVELOPMENT

[Docket No. FR-4710-N-02]

Public Housing Assessment System Physical Condition Scoring Process Interim Scoring, Corrections and Republication

AGENCY: Office of the Assistant Secretary of Public and Indian Housing, HUD.

ACTION: Notice.

SUMMARY: This notice provides additional information to public housing agencies (PHAs) about the interim scoring methodology for scoring PHAs under the Physical Condition Indicator of the Public Housing Assessment System (PHAS). This interim scoring is effective for PHAs with fiscal years ending September 30, 2001, December 31, 2001, March 31, 2002, June 30, 2002, and September 30, 2002. After the interim period, the Department will determine a PHA's PHAS Physical Condition Indicator score in accordance with the scoring process of this notice, excluding the modification in the calculation of the area weights for the five inspectable areas.

By notice published June 28, 2000, the Department updated the Physical Condition Scoring Process notice that was published on June 23, 1999. The June 28, 2000, notice took into consideration public comments received on the June 23, 1999, notice and reflected changes made to the PHAS final rule published on January 11, 2000, and corrections to that final rule published on June 6, 2000.

This document also corrects printing errors that occurred in a portion of Appendix 1 in the June 28, 2000, notice; and includes the revised Dictionary of Deficiency Definitions as Appendix 2.

The changes made to this notice are discussed in the Supplementary Information section of this notice.

DATES: Comments Due Date: December 26, 2001.

FOR FURTHER INFORMATION CONTACT: For further information contact the Real Estate Assessment Center (REAC), Attention: Wanda Funk, U.S. Department of Housing and Urban Development, 1280 Maryland Avenue, SW., Suite 800, Washington, DC 20024: telephone REAC's Customer Service Center at (888) 245-4860 (this is a toll free number) or contact the Office of Public and Indian Housing, Attention: Judy Wojciechowski, U.S. Department of Housing and Urban Development, 1280 Maryland Avenue, SW., Suite 800, Washington, DC 20024: telephone (202) 708-4932 extension 3464. Persons with hearing or speech impairments may access this number via TTY by calling the Federal Information Relay Service at (800) 877-8339. Additional information is available from the REAC Web site at http://www.hud.gov/reac/.

SUPPLEMENTARY INFORMATION:

Purpose of This Notice

The purpose of this notice is to provide additional information about the scoring process for PHAS Indicator #1, Physical Condition. The purpose of the Physical Condition assessment is to ensure that public housing units are decent, safe, sanitary and in good repair, using HUD's Uniform Physical Condition Standards (UPCS) for the assessment. The physical condition assessment under the PHAS utilizes uniform physical inspection procedures to determine compliance with the UPCS and is an important indicator of the PHA's performance.

Of the total 100 points available for a PHAS score, a PHA may receive up to 30 points under PHAS Indicator #1. The physical condition score is included in the aggregate PHAS score.

The information provided in this notice was originally published on May 13, 1999 (64 FR 26166), and republished on June 23, 1999 (64 FR 33650). HUD solicited public comment on both the May 13, 1999, and June 23, 1999, notices. This Physical Condition Scoring Process notice, is published in this edition of the Federal Register, has been revised from the June 23, 1999, notice, to reflect the public comments received on the previous notices and to reflect the changes made to the PHAS regulations by final rule published on January 11, 2000 (65 FR 1712).

This notice is different from the June 28, 2000 notice in the following respects: (1) It modifies the normalized area weights so that a property's physical inspection score is derived from Dwelling Unites and Building Systems only; (2) it prescribes the frequency of inspections based on a PHA's most recent PHAS Physical Condition Indicator score; (3) it describes how the scoring methodology reflects that not all buildings are inspected and includes in building weights the building selection probabilities; and (4) it includes the revised Dictionary of Deficiency Definitions as Appendix 2. During the interim period, the numerical scoring of each inspection will change but the inspection process and protocol will remain the same. The inspector will follow the same inspection methodology, i.e., recording information and observable deficiencies in the five inspectable areas: Site, Building Exterior, Building Systems, Common Areas, and Dwelling Units. The inspector also will record and report all health and safety deficiencies in each of the five inspectable areas. However, the inspection score for each property will be based only on the information reported by the inspector for two inspectable areas, Building Systems and Dwelling Units, after redistribution of the area weights for the three non-included areas.

The area weights for the three non-scored inspectable areas will be redistributed proportionally to the two inspectable areas that will be scored. Each property inspection score will continue to be based on a 100 point scale. As a result, the nominal weights of the two inspectable areas that will be scored will change. See Item 9, below.

The overall PHAS Indicator #1 score will determine the frequency of inspections of a PHA's portfolio. For PHAs whose PHAS Indicator #1 score is 24 or higher based on the 30 point score, physical inspections will be conducted every two years (subject to any changes made in further revisions to the rule or scoring notices). For PHAs whose PHAS Indicator #1 score is less than 24 based on the 30 point score, physical inspections will be conducted annually.

The “baseline” PHAS Indicator #1 score that determines the frequency of inspections is as follows:

(1) For PHAs having a fiscal year end (FYE) of September 30, the PHAS Indicator #1 score from the September 30, 2000, physical inspection(s) will be used;

(2) For PHAs having a FYE of December 31, the PHAS Indicator #1 score from December 31, 1999 will be used; if the PHA was inspected for the December 31, 2000, cycle, the December 31, 2000, score will be used;

(3) For PHAs having a FYE of March 31, the PHAS Indicator #1 score form March 31, 2000 will be used; if the PHA was inspected for the March 31, 20001, cycle, the March 31, 2001, score will be used; and

(4) For PHAs having a FYE of June 30, the PHAS Indicator #1 score from June 30, 2000, will be used; if the PHA was inspected for the June 30, 2001, cycle, the June 30, 2001, score will be used.

Physical inspections will be conducted in accordance with the above assessment cycle commenting with PHAs having a FYE of September 30, 2001. The application for adjustment to PHAS Indicator #1 for physical condition and/or neighborhood environment will be considered in the year the PHA receives a physical inspection.

Notwithstanding the foregoing, any PHA that is not required to have an inspection based on its “baseline” score, may request that HUD perform a PHAS Indicator #1 inspection. The Office of Public and Indian Housing must receive requests for an inspection no later than 60 days prior to the PHA's FYE with the exception of requests for an inspection from PHAs with a FYE of September 30, 2001, and December 31, 2001, which must be received no later than December 31, 2001. All PHAs which request a new PHAS Indicator #1 inspection are bound by that score, and this score will be used to determine the PHA's next time of inspection.

The PHAS/REAC Physical Inspection

The PHAS physical inspection, performed by HUD's Real Estate Assessment Center (REAC), generates comprehensive results, such as:

• Physical inspection scores reported at the property level;

• Area level scores for each of the five REAC physical inspection areas; and

• Observations of deficiencies recorded by the inspector electronically at the time of the inspection.

The Physical Inspection Scoring Process

1. Definitions

THe following are the important definitions of terms used in the physical conditions scoring process:

Score means a number between 0 and 100 that reflects the physical condition of a property, inspectable area, dwelling unit, or sub-area:

• To record a health or safety problem, a letter is added to the property score (a, b, or c); and

• To note that smoke detectors are inoperable or missing, an asterisk (*) is added to the property score.

Inspectable area means any of the five major components of the property which are:

• Site

• Building Exterior

• Building System

• Common Areas

• Dwelling Units

Sub-area means an inspectable area for one building. For example, if a property has more than one building, each inspectable area for each building in the property is treated as a sub-area.

Inspectable items refer to walls, kitchens, bathrooms, and other things to be inspected in an inspectable area. The number of inspectable items varies for each area. Weights are assigned to each item to reflect relative importance, as shown in Appendix 1 (Item Weights and Criticality Levels).

Deficiencies refer to specific problems that can be recorded for the inspectable items, such as a hole in a wall or a damaged refrigerator in the kitchen.

Criticality means one of five levels that reflect the relative importance of the deficiencies for an inspectable item. Appendix 1 also lists all deficiencies with their designated levels, which vary from 1 to 5, with 5 as the more critical. The deficiencies also have assigned values used in scoring as follows:

Criticality | Level | Value
Critical | 5 | 5.00
Very important | 4 | 3.00
Important | 3 | 2.25
Contributes | 2 | 1.25
Slight contribution | 1 | 0.50

Based on the importance of the deficiency, reflected in its criticality value, points are deducted from the property score. For example, a clogged drain in the kitchen is more critical than a damaged surface on a counter top. Therefore, more points will be deducted for a clogged drain than for a damaged surface.

Severity means one of three levels that reflect the extent of damage associated with each deficiency, with values assigned as follows:

Severity level | Value
3 | 1.00
2 | 0.50
1 | 0.25

Appendix I shows the severity levels that are possible for each deficiency. Based on the severity of each deficiency, the score is reduced. Points deducted are calculated based on the product of the item weight and the values for criticality and severity, as described below. For specific definitions of each severity level, see the REAC's “Dictionary of Deficiency Definitions,” which is attached hereto as Appendix 2. The dictionary is also available from REAC's Internet site at http://www.hud.gov/reac.

Normalized area weights mean weights used with area scores to create property level scores. The weights are adjusted to reflect the inspectable items that are present.

2. Scoring Process Input

To generate accurate scores, it is crucial to determine the appropriate relative weights of the various components of the inspection; that is, which components are the most important, the next most important, and so on. To develop the scoring methodology for the PHAS physical inspection, HUD utilized information provided by several knowledgeable parties, including:

• Professionals experienced in assessing the physical condition of properties;

• Representatives from the housing and public housing industries; and

• HUD professionals.

In an extensive series of meetings, these parties gave HUD valuable advice and comments on the relative weights and values for inspectable areas, items, criticality of deficiencies, and severity levels of deficiencies.

3. Equity Principles

In addition to determining the appropriate relative weights, HUD also took into consideration several issues concerning equity between properties:

Proportionality. The scoring methodology includes an important control, which does not allow any dwelling unit or sub-area scores to be negative. If a sub-area, such as the building systems for a given building, has so many deficiencies that the sub-area score is negative, the score is set to zero. This control mechanism ensures that no single building or dwelling unit can affect the overall score more than its proportionate share of the whole.

Configuration of property. The scoring methodology takes into account that properties have different numbers of units in buildings. To fairly score properties with different numbers of units in buildings, the area scores are calculated for Building Exterior and Building Systems by using weighted averages of the sub-area scores, where the weights are based on the number of units in each building.

Differences between properties. The scoring methodology also takes into account that properties have different features and amenities. To ensure that the overall score reflects only the items present to be inspected, weights to calculate area and property scores are adjusted depending on how many items are to be inspected.

4. Deficiency Definitions

During a physical inspection of a property, the inspector looks for deficiencies identified in the UPCS inspection software for each inspectable item within the inspectable areas, such as the walls (item) of a dwelling unit (area). A specific criticality level is assigned to each deficiency. The criticality level reflects the importance of the deficiency relative to all deficiencies for the item. One of three severity levels is also assigned based on the observed condition.

The “Dictionary of Deficiency Definitions,” defines the three levels of severity: level 1, level 2, and level 3.

5. Health and Safety Deficiencies

The REAC physical inspection emphasizes health and safety (H&S) deficiencies because of their crucial importance to the well-being of residents. H&S deficiencies can substantially reduce the overall property score. As noted earlier, the H&S deficiencies are highlighted by adding a letter to the numeric score. Letters to the numeric score are added as follows:

• If there are no H&S deficiencies, add a;

• If there are H&S deficiencies, that are not life-threatening (NLT), add b; and

• If there are exigent H&S deficiencies that are life threatening (LT), i.e., calling for immediate attention or remedy—or fire safety H&S deficiencies, add c.

Appendix 1 lists all H&S deficiencies with an “LT” designation for exigent/fire safety and “NLT” for non-life threatening deficiencies. Note that these designations only apply for severity level 3.

To ensure prompt correction of H&S deficiencies, the inspector gives the property representative the list of every observed exigent/fire safety H&S deficiency before leaving the site. The property representative acknowledges receipt of the deficiency report by signature. The inspector also transmits the deficiency report to HUD not later than the morning after completing the inspection. HUD sends all PHAs an inspection report of the H&S deficiencies recorded by an inspector. These reports clearly show:

• The number of H&S deficiencies (exigent/fire safety and non-life threatening) that the inspector observed;

• All observed smoke detector deficiencies; and

• A projection of the total number of H&S problems that the inspector potentially would see in an inspection of all buildings and all units.

If there are smoke detector deficiencies, the physical condition score will include an asterisk. However, problems with smoke detectors do not currently affect the overall score. When there is an asterisk indicating the property has at least one smoke detector deficiency, that part of the score may be identified as “risk.” For example, “93a, risk” for 93a* and “71c, risk” for 71c*.

There are six distinct letter grade combinations: a, a*, b, b*, c and c*. For example:

• A score of 90c* means that the property contains at least one exigent/fire safety H&S deficiency to be corrected, including at least one smoke detector deficiency, but is otherwise in excellent condition;

• A score of 55a means that the property is in poor condition, even though there are not H&S deficiencies; and

• A property in excellent physical condition with no H&S deficiencies would have a score of 90a to 100a.

6. Scoring Process Elements

The physical condition scoring process is based on three elements within a property:

• Inspectable areas;

• Inspectable items; and

• Observed deficiencies.

7. Scoring a Weighted Averages

The score for a property is the weighted average of area scores, with the area weights adjusted to take into account how many of an area's inspectable items are actually present to be inspected.

The area scores are calculated by deriving weighted averages of sub-area scores over buildings or dwelling units as appropriate.

The sub-area scores are calculated by deducting points for deficiencies, based on criticality and severity levels. Points are also deducted for H&S deficiencies. (Sub-area scores may not be less than zero.)

8. Essential Weights and Levels

The process of scoring a property's physical condition depends on the weights, levels, and associated values of several quantities:

• Weights for inspectable areas;

• Weights for inspectable items within areas;

• Criticality levels and their associated values for the possible deficiencies within items inspected;

• Severity levels and their associated values for deficiencies; and

• Health and safety deductions (exigent/fire safety and non-life threatening) for site, buildings, and dwelling units.

9. Nominal Area Weights

A property's overall physical condition score is a weighted average of area scores. For the interim assessment, a property's score will be derived from the Dwelling Units and Building Systems scores only. As a result, the three other area weights must be redistributed to these two areas so that a property's score is still based on a 100 point scale. Accordingly, approximate area weights for the area scores (i.e., Dwelling Units and Building Systems) have been modified as illustrated below when Site, Building Exterior, and Common Areas have their nominal area weight set to zero.

Area | June 28, 2000 scoring notice: Weight (percent) | Interim notice: Weight (percent)
Site | 15 | 0
Buildiing Exterior | 15 | 0
Buildings Systems | 20 | 36
Common Areas | 15 | 0
Dwelling Units | 35 | 64

These weights are assigned if all inspectable items are present for each area and for each building and unit. All of the inspectable items may not be present in every inspectable area. When items are missing in an area, the area weights are modified in reflect the missing items so they once again add to 100%. This is illustrated in Item 14, Example 3, below, where some inspectable items are missing in an inspectable area.

10. Dwelling Units and Building Systems Sub-Area Scores

For the interim assessment, property scores will be derived from area scores from Dwelling Units and Building Systems only. The area weights for Site, Building Exterior, and Common Areas will be set to zero and their respective points redistributed. The area scores will be derived from weighted averages of “sub-area” scores, which are the Dwelling Units and Building Systems scores calculated for individual dwelling units and buildings. These are the steps to arrive at sub-area scores for a dwelling unit or building:

Step 1: Calculate an “initial proportionate score”—the difference between the possible points for a building or a unit and the deductions associated with the deficiencies recorded. The number of possible points is the total of the inspectable item weights, ignoring the H&S item, for the site, or a building sub-area, or dwelling unit.

Step 2: Calculate the deduction for an observed deficiency by multiplying the relevant item weight by the criticality value and by the severity value.

Step 3: In a similar manner, reduce the scores for any health and safety (H&S) deficiencies observed, including those in the H&S item and those in other non-H&S items. (The item weight for deficiencies included in the H&S item is equal to the largest weight among the items present). At this point, the control to prevent negative scores is applied. Thus, no one building or unit may affect an area score more than its proportionate share would justify.

Step 4: Normalize the resulting proportionate scores to scores based on 100 points by dividing by the total of weights of items present to be inspected, not including the H&S items.

11. Area Scores

Within each area involving either multiple buildings or units, the area score is weighted average of the building sub-area scores or unit scores. To calculate these weighted averages, follow these guidelines:

Dwelling Units: The area score is the weighted average of sub-area scores for each unit, weighted by the total of item weights present to be inspected in each unit.

Building Systems: The area score for Building Systems is the weighted average of sub-area scores. The weights are the product of the total weights for items, ignoring the H&S item, inspected for each building's building systems times the total number of units for each building. (Note: the total number of units is all units, and not just units inspected.) For most properties, all buildings are inspected. For properties for which buildings are sampled, each sampled building's weight is multiplied by its “sampling weight,” which is the reciprocal of the probability of selection. When computing area scores for Building Exterior or Building Systems, a number of adjustments are made for common buildings without units. When computing the area scores for Building Systems, there may be special considerations when there are common buildings. (The term common building refers to any inspectable building that contains no dwelling units.) All common buildings are inspected. In those cases where a sample is taken of buildings with units, the effect of common buildings on the Building Systems score should be reduced. This reduction is accomplished by multiplying the weights for common buildings by the number of units in inspected buildings, divided by the total number of units in the property. Also for weighting purposes, a common building is assigned the average number of units in all buildings, including all common buildings and all buildings with units, whether inspected or not. Finally, to adjust for differences in size between common buildings, a common building's weight is multiplied by the total weight of items present to be inspected for the building's common areas.

12. Overall Property Score

To calculate the overall property score, the normalized area weights are applied to the area scores. For the interim assessment, the property score will be derived from the Dwelling Units and Building Systems area scores only since the area weights for Site, Building Exterior, and Common Areas have been set to zero and the points redistributed.

13. Possible Points

Normalized area weights reflect both the initial weights and the relative weights between areas of inspectable items actually present. For reporting purposes, normalized weights are presented as the maximum point contributions for each of the five inspectable areas. The following items are set forth on each Physical Inspection Report:

• Normalized weights, listed as the “Possible Points,” by inspectable area;

• The scores for each inspectable area, listed as “Area Points,” taking into account the points deducted for observed deficiencies;

• The deductions for H&S, listed as “H&S Deductions,” associated with each inspectable area; and

• The overall property score.

The physical Inspection Report allows the PHA to see the magnitude of the points lost by inspectable area, and the impact on the score of the H&S deficiencies.

14. Examples of Physical Condition Score Calculations

The physical inspection scoring is deficiency based; all properties start with 100 points. Each deficiency observed reduces the score by an amount dependent on the importance and severity of the deficiency, the number of buildings and units inspected, the inspectable items actually present to be inspected and the relative weights between inspectable items and between inspectable areas.

To illustrate how physical condition scores are calculated, three examples are provided below. These examples go through a number of interim stages in calculating the score, illustrating how sub-area scores are calculated and then rolled up into area scores, and how area scores are combined to calculate the overall property score. One particular deficiency, a leak in a boiler pump, is carried through the examples with the end result of causing a loss of one and one-half points. As will be seen, the deduction starts out as a percent of the sub-area and then the area score is considerably decreased in the final overall property score since it is averaged across other sub-areas (Building Systems in the example) and then averaged across the five areas. Although interim results in the examples are rounded, only the final results are rounded for actual calculations.

Following this section, another example is given specifically for public housing properties to show how property scores are rolled up into the PHAS Indicator #1 score for the PHA as a whole.

Example #1: This example illustrates how the score for a building system sub-area is calculated based on the following features:

#1a. Ignoring the H&S item, the other seven items have a total weight of 100%, as shown in Appendix 1. If the building had no elevator, an item with a normal weight of 5%, then the total item weight for the remaining non-H&S items would be 95%, which is then the base (95.0 points) from which deductions are made to create the “initial proportionate score” as described, above, under Sub-Area Scores.

#1b. Assume a small leak was observed in one of the recirculating pumps associated with the building's boiler system. This is the deficiency mentioned, above, which will reduce the overall property score by one and one-half points. The criticality level for this deficiency is provided in Appendix 1 as a “4”, which has a value of 3.0 as given, above, under Definitions. If, based on the Dictionary of Deficiency Definitions, it is determined that the small leak is a level 1 deficiency, then the amount of points deducted is the item weight (15.5) times the criticality value (3), times the severity value (0.25), which equals 11.6 points for this interim state of assessment. As noted above, however, this deduction is actually only one and one-half points after completing calculation of the sub-area score for this building system, and then averaging over other building systems and the five areas. These changes in deductions through the interim stages will be noted after each stage of calculation.

#1c. If this is the only deficiency observed, then the initial proportionate score for this sub-area would be 95.0-11.6 or 83.4 points.

#1d. Additional deficiencies or H&S deficiencies (calculated in the same manner) would further decrease the sub-area score, and if the score dropped below zero, then it would be changed to zero.

#1e. The initial proportionate sub-area score is then normalized to a 100 point basis by dividing by the total of the non-H&S item weights (0.95), which would create the final score of (83.4)/(0.95) = 87.8.

Note: Although ultimately just one and one-half points is deducted from the overall property score, during the interim assessment, the 11.6 point deductions for the small boiler pump leak becomes a (11.6)/(0.95) = 12.2 point deduction in this building's system sub-area score.

Example #2: This example illustrates how the score for an area is calculated based on the following features:

#2a. Consider a property with two buildings with the following characteristics:

• Since both buildings were inspected, their probability of selection is both 1.00.

• Building #1 (from Example #1, above):

—10 units

—95.0% of the weight for the items that were present in Building Systems

—Sampling weight is 1.00

—Building Systems score is 87.8 points

• Building #2:

—20 units

—100% of the weight for the items that were present in Building Systems

—Sampling weight is 1.00

—Building Systems score is 69.1 points

• The average percent of weight of items present is ((10 units × 95%) + (20 units × 100%))/30 = 98%

#2b. The Building Systems score for the building system area is the weighted average of the individual scores. Each Building Systems score is weighted by the following: the number of units, the percent of the weight for items present in the Building Systems, and the sampling weight.

#2c. The scores for buildings #1 and #2, above, are calculated using the following formula: Building Systems score = sum of [(building score) times (building weight divided by the sum of building weights)]

• Building #1 weight: [(10 units) × (95% weight) × 1.00] = 9.5

• Building #2 weight: [(20 units) × (100% weight) × 1.00] = 20

• Total weight = 9.5 + 20, or 29.5

• Building Systems score

= (87.8 points) × (9.5/29.5)

+ (69.1 points) × (20/29.5)

= 28.3 + 46.8

= 75.1

Note: The interim 12.2 point sub-area deduction for the small boiler pump leak in the sub-area score is a (12.2) × (9.5/29.5) = 3.9 point deduction in the building system area score. The next stage reduces the deduction to one and one-half property points.

Example #3: This example illustrates how the score for a property is calculated based on the following:

#3a. Consider a property with the following characteristics:

• Building Systems (from Example #2 above):

—Score: 75.1 points

—98% of weight of items present

—Nominal weight: 36%

• Dwelling Units:

—Score: 80 points

—85% of weight of items present

—Nominal weight: 64%

#3b. First, adjust the area weights for each area. Multiply the weight of items present by the nominal weight for each area and add the total:

Building Systems | 36 × 98% | = | 35.3
Dwelling Units | 64 × 85% | = | 54.4
Total |  | = | 89.7

#3c. Adjust the area weights to “normalize” so that they add to 100. Divide each adjusted area weight by the total and multiply by 100 (this also results in the maximum possible points reported for each area):

Building Systems | (35.3/89.7)×100 | = | 39.4
Dwelling Units | (54.4/89.7)×100 | = | 60.6

#3d. Multiply the new “normalized” weights by the area scores, above, divide by 100, and add the results:

|  |  | Points
Building Systems | 39.4 × 75.1 / 100 | = | 29.6
Dwelling Units | 60.6 × 80 / 100 | = | 48.5
Total Property Score |  | = | 78.1

Note: The deduction from the Building Systems score caused by the small boiler pump leak in Building #1 then becomes a final deduction of (39.4) × (3.9/100) = 1.5 points in the overall property score. The final rounded property score would be 78 points.

15. Computing the PHAS Physical Condition Indicator Score

The PHAS Indicator #1 score for a PHA is the weighted average of the PHA's individual properties' physical inspection scores adjusted for physical condition and neighborhood environment, where the weights are the number of units in each property divided by the total number of units in all properties for the PHA.

Example: Property 1 has a score of 78 and has 30 units; Property 2 has a score of 85 and has 200 units. The score is computed as follows:

Score

= [78 × 30/(30 + 200)] + [85 × 200/(30 + 200)]

= 10.2 + 73.9

= 84.1

The PHAS Indicator #1 score is then calculated by multiplying by 0.30 to obtain a score based on 30 points. For this example, the resulting score would be 25.2 points.

16. Examples of Sampling Weights for Buildings

The determination of which buildings will be inspected is a two-phase process. In phase 1 of the process, all buildings that contain the sampled dwelling units that will be inspected are included in the sampled buildings that will be inspected. (Dwelling units are sampled with equal probabilities at random from all buildings.) When all buildings on a property are not selected in the building sample through phase 1, phase 2 is used to increase the size of the building sample. In phase 2, the additional buildings that are to be included in the sample are selected with equal probabilities so that the total building sample size is the lesser of either (1) the dwelling unit sample size, or (2) the number of all buildings.

To illustrate the process for sampling buildings, two examples are provided below:

Example #1: This example illustrates a property with two buildings for which both buildings are sampled with certainty.

Building 1 has ten dwelling units and building 2 has 20 dwelling units, for a total of 30 dwelling units. The target dwelling unit sample size for a property with 30 dwelling units is 15. Thus, the sampling ratio for this property is 30/15 = 2, which means every second dwelling unit will be selected. The number of residential buildings to be inspected is the minimum of 15 and 2; thus, two residential buildings are to be inspected. Since both buildings have at least 2 dwelling units, both buildings were selected in phase 1 of sampling, phase 2 is not invoked. Both buildings will then have a selection probability of 1.000 and a sampling weight of 1.00.

Example #2: This example illustrates a property with some buildings selected in phase 1, others selected in phase 2, and some buildings that are not selected at all.

The property is comprised of 22 residential buildings. Two buildings each have ten dwelling units and 20 buildings are single-family dwelling units. The property has 40 dwelling units (2 × 10 + 20). The target sample size for a property with 40 dwelling units is 16; the sampling ratio is 40/16 = 2.5. Pursuant to protocol 16 residential buildings will be inspected for this property.

In phase 1 of sampling, the two buildings with 10 dwelling units are selected with certainty since they each have more than 2.5 dwelling units. Each of the single-family buildings has a 1/2.5 = 0.40 probability of phase 1 selection.

Assume that both large buildings and eight of the single-family buildings (ten buildings in all) were selected in phase 1. This leaves 12 single-family buildings available for selection in phase 2. Since 16 residential buildings are inspected, the sample of ten buildings selected in phase 1 falls six buildings short of a full sample and six buildings will be selected in phase 2. Since phase 2 sampling will select six of the 12 previously unselected buildings, each building not selected in phase 1 will have a 6 in 12 (0.50) probability of selection in phase 2.

The probability of selection for the two large buildings is: Sampling probability = 1.00 = (1.00 − 1.00) × 0.50 = 1.00. The sampling weights for these buildings are 1.

The single-family buildings each have a sampling probability calculated as follows:

Sampling probability = 0.40 + (1.00 − 0.40) × 0.50) = 0.70. The sampling weight of selected single-family buildings is 1/0.70 = 1.43.

17. Accessibility Questions

The physical inspection will include determining if: (1) There is a wheelchair accessible route to and from the main ground floor entrance of the buildings inspected; (2) the main entrance for every building inspected is at least 324'' wide, measured between the door and the opposite door jamb; (3) there is an accessible route to all exterior common areas; and (4) the interior hallways to all inspected units and common areas are at least 36'' wide for multistory buildings that are inspected. This item is not scored.

Dated: November 19, 2001.
Michael Liu,
Assistant Secretary for Public and Indian Housing.

BILLING CODE 4210-33-P

BILLING CODE 4210-33-C

Appendix 2—Dictionary of Deficiency Definitions

Site Inspectable Items

Items to inspect for “Site” are as follows:

• Fencing and Gates

• Grounds

• Mailboxes/Project Signs

• Market Appeal

• Parking Lots/Driveways/Roads

• Play Areas and Equipment

• Refuse Disposal

• Retaining Walls

• Storm Drainage

• Walkways/Steps

Fencing and Gates (Site)

Fence: A structure functioning as a boundary or barrier. An upright structure serving to enclose, divide or protect an area.

Gate: A structured opening in a fence for entrance or exit.

Note: This does not include swimming pool fences. Swimming Pool Fences are covered under Common Areas—Pools and Related Structures.

This inspectable item can have the following deficiencies:

Damaged/Falling/Leaning

Holes

Missing Sections

Damaged/Falling/Leaning (Fencing and Gates)

Deficiency: A fence or gate is rusted, deteriorated, or uprooted which may threaten security, health, or safety.

Note: Gates for swimming pools fences are covered in another section, “Common Areas—Pools and Related Structures”.

Level of Deficiency: Deficiencies in exterior fences, security fences, and gates are a higher level than interior fences and gates.

Level 1: N/A

Level 2: An interior fence or gate is so damaged that it does not function as it should.

-OR-

An exterior fence, security fence, or gate shows signs of deterioration, but still functions as it should, and it presents no risk to security or safety.

Level 3: An exterior fence, security fence, or gate is no longer there.

-OR-

An exterior fence, security fence, or gate is damaged and does not function as it should or could threaten safety or security.

Holes (Fencing and Gates)

Deficiency: These is an opening or penetration in any fence or gate designed to keep intruders out or children in. Look for holes that could allow animals to enter or could threaten the safety of children.

Note: If the fence or gate is not designed to keep intruders out or children in—such as a rail fence—do not evaluate it for holes.

Level of Deficiency:

Level 1: The hole is smaller than 6 inches by 6 inches.

Level 2: N/A

Level 3: The hole is larger than 6 inches by 6 inches.

Missing Sections (Fencing and Gates)

Deficiency: A section of a fence or gate has been destroyed or removed, and the structure no longer prevents entry or exit.

Level of Deficiency: Deficiencies in exterior fences, security fences, and gates are a higher level than interior fences and gates.

Level 1: An interior fence is missing a section.

Level 2: N/A

Level 3: An exterior fence, security fence, or gate is missing a section, which could threaten safety or security.

Grounds (Site)

The improved land adjacent to or surrounding the housing and related structures. This does not include land not owned or under the control of the housing provider.

This inspectable item can have the following deficiencies:

Erosion/Rutting Areas

Overgrown/Penetrating Vegetation

Ponding/Site Drainage

Erosion/Rutting Areas (Grounds)

Deficiency: Natural processing—weathering, erosion, or gravity—or man-made processes have caused either of these conditions:

—collection or removal of surface material

-OR-

—sunken tracks, ruts, groves, or depressions

Note: This does not include erosion/rutting from a defined storm drainage system or in a play area. These are covered in these sections: “Site—Storm Drainage” and “Site—Play Areas and Equipment”.

Level of Deficiency:

Level 1: N/A

Level 2: Erosion has caused surface material to collect, leading to a degraded surface that would likely cause water to pool in a confined area—especially next to structures, paved areas, or walkways.

-OR-

A rut/grove is 6-8 inches wide and 3-5 inches deep.

Level 3: Runoff has extensively displaced soil, which has caused visible damage or the potential failure of adjoining structures or systems—pipes, pavements, foundations, building, etc.

-OR-

Advanced erosion threatens the safety of pedestrians or makes an area of the grounds unusable.

-OR-

These is a rut larger than 8 inches wide by 5 inches deep.

Overgrown/Penetrating Vegetation (Grounds)

Deficiency: Plant life has spread to unacceptable areas, unintended surfaces, or has grown in areas where it was not intended to grow.

Level of Deficiency:

Level 1: N/A

Level 2: Vegetation is extensive and dense; it is difficult to see broken glass, holes, and other hazards.

-OR-

Vegetation contacts or penetrates an unintended surface—buildings, gutters, fences/walls, roofs, HVAC units, etc.—but you see no visible damage.

-OR-

Extensive, dense vegetation obstructs the intended path of walkways or roads, but the path is still passable.

Level 3: Plants have visibly damaged a component, area, or system of the property or have made them unusable/impassable.

Ponding/Site Drainage (Grounds)

Deficiency: Water or ice has collected in a depression or on ground where ponding was not intended.

Note:

1. This does not include detention/retentionbasins or ponding on paved area; such as parking lots:

—Detention/retentionbasins are covered in “Site—Storm Drainage”.

—Ponding on paved areas is covered in “Parking Lots/Driveways/Roads”.

2. If there has been measurable precipitation (⅒ inch or more) during the previous 48 hours, consider the impact on the extent of the ponding. Determine that ponding has occurred only when there is clear evidence of a persistent or long-standing problem.

Level of Deficiency:

Level 1: N/A

Level 2: An accumulation of water (3-5 inches deep) affects the use of a section of the grounds, but the grounds are generally usable.

Level 3: There is an accumulation of more than 5 inches deep.

-OR-

Accumulation has made a large section of the grounds—more than 20%—unusable for its intended purpose. (For example, ponding has made a recreational field unusable.)

Mailboxes/ProjectSigns (Site)

Mailbox is a public container where mail is deposited for distribution and collection. This does not include mailboxes owned and maintained by the US Postal Service, such as the “Blue Boxes”. Project signs are boards, posters, or placards displayed in a public place to advertise, impart information, or give directions. This does not include signs owned and maintained by the city.

This inspectable item can have the following deficiences:

Mailbox Missing/Damaged

Signs Damaged

Mailbox Missing/Damaged (Mailboxes/ProjectSigns)

Deficiency: The U.S. Postal Service resident/unit mailbox is either missing or so damaged that it does not function properly.

Note:

Do not inspect commercial deposit boxes—FedEx, UPS, etc.—or U.S. Postal Service “blue boxes”.

Level of Deficiency:

Level 1: N/A

Level 2: N/A

Level 3: The U.S. Postal Service resident/unitmailbox cannot be locked.

—OR—

The U.S. Postal Service resident/unitmailbox is missing.

Signs Damaged (Mailboxes/ProjectSigns)

Deficiency: The project sign is not legible or readable because of deterioration or damage.

Level of Deficiency:

Level 1: The sign is damaged, vandalized, or deteriorated, and cannot be read from a reasonable distance (for example, 20 feet).

Level 2: N/A

Level 3: N/A

Market Appeal (Site)

Evaluate only those areas or structures that are under the control of the housing provider.

This inspectable item can have the following deficiences:

Graffiti

Litter

Graffiti (Market Appeal)

Deficiency: You see crude inscriptions or drawings scratched, painted, or sprayed on a building surface, retaining wall, or fence that the public can see from 30 feet away.

Note: There is a difference between art forms and graffiti. Do not consider full wall murals and other art forms as graffiti.

Level of Deficiency:

Level 1: You see graffiti in one place.

Level 2: You see graffiti in 2-5 places.

Level 3: You see graffiti in 6 or more places.

Litter (Market Appeal)

Deficiency: There is a disorderly accumulation of objects on the property—especially carelessly discarded trash.

Note: Judge litter as you would judge the condition of a city park in America. Do not include these as litter.

—litter left behind in the path of a recent garbage collection

—litter that maintenance personnel are collecting and removing during your inspection

Level of Deficiency:

Level 1: N/A

Level 2: You see a excessive litter on the property.

Level 3: N/A

Parking Lots/Driveways/Roads(Site)

An area for parking motorized vehicles begins at the curbside and includes all parking lots, driveways or roads within the property lines that are under the control of the housing provider.

This inspectable item can have the following deficiencies:

Cracks

Ponding

Potholes/Loose Material

Settlement/Heaving

Cracks (Parking Lots/Driveways/Roads)

Deficiency: There are visible faults in the pavement: longitudinal, lateral, alligator, etc.

Note:

1. Do not include cracks on walkways/steps. For this to be a level 2 deficiency, 5% of the parking lots must be impacted—50 out of 1,000 square feet, for example.

2. Relief joints are there by design; do not consider them cracks.

3. When observing traffic ability, consider the capacity to support people on foot, in wheelchairs, and using walkers—and the potential for problems and hazards.

4. For parking lots only, note a deficiency if you see cracks on more than 5% of the parking spaces.

5. For driveways/roads, note a deficiency if you see cracks on more than 5% of the driveways/roads.

Level of Deficiency:

Level 1: N/A

Level 2: Cracks greater than ¾ inch, hinging/tilting, or missing section(s) that affect traffic ability over more than 5% of the property's parking lots/driveways/roads.

Level 3: N/A

Comments

Level 2: If the height differential is greater than ¾ inch, consider this a safety hazard. If the condition of the surface could cause tripping or falling, you must manually record this deficiency as “Health and Safety: Hazards.”

Ponding (Parking Lots/Drivways/Roads)

Deficiency: Water or ice has accumulated in a depression on an otherwise flat plane.

Note:

1. Consider the impact of any measurable precipitation—⅒ inch or more—during the last 48 hours. Note the deficiency only if there is a clear evidence that the ponding is a persistent or long-standing problem.

2. For parking lots only, note a deficiency if you see ponding on more than 5% of the parking spaces.

3. For driveways/roads, note a deficiency if you see ponding on more than 5% of the driveways/roads.

Level of Deficiency:

Level 1: N/A

Level 2: Less than 3 inches of water has accumulated, affecting the use of 5% or more of a parking lot/driveway; the parking lot/driveway is passable.

Level 3: Three inches of water—or more—has accumulated 5% or more of a parking lot/driveway unusable or unsafe.

Potholes/Loose Material (Parking Lots/Driveways/Roads)

Deficiency:

—a hole caused by road surface failure

-OR-

—loose, freestanding aggregate material caused by deterioration

Level of Deficiency:

Level 1: Potholes or loose material have caused the pavement to fail, exposing the subsurface.

Level 2: N/A

Level 3: Potholes or loose material have made a parking lot/driveway unusable/impassable for vehicles and/or pedestrians.

Comments

Level 3: If the excessively irregular surface could cause tripping or falling, you must manually record this deficiency as “Health and Safety: Hazards.”

Settlement/Heaving (Parking Lots/Driveways/Roads)

Deficiency: The pavement sinks or rises because of the failure of subbase materials.

Note: If you see that water or ice has collected in the depression, record this under Ponding.

Level of Deficiency:

Level 1: Cracks and deteriorated surface material give evidence of settlement/heaving.

Level 2: N/A

Level 3: Settlement/heaving has made a parking lot/driveway unusable/impassable or creates unsafe conditions for pedestrians and vehicles.

Comments

Level 3: If the excessively irregular surface could cause tripping or falling, you must manually record this deficiency as “Health and Safety: Hazards.”

Play Areas and Equipment (Site)

An outdoor area set aside for recreation or play, especially one containing equipment such as seesaws and swings.

This inspectable item can have the following deficiencies:

Damaged/Broken Equipment

Deteriorated Play Area Surface

Damaged/Broken Equipment (Play Areas and Equipment)

Deficiency: Equipment is broken into pieces, shattered, incomplete, or inoperable.

Note: Do not evaluate equipment that the authority states has been withdrawn from service, except when safety is still a concern—sharp edges, dangerous leaning, etc. For example, if the authority removed the net and hoop from a basketball backboard and the backboard poses no safety hazards, it is not a deficiency.

Level of Deficiency:

Level 1: You see that some of the equipment—20-50%—does not operate as it should, but poses no safety risk.

Level 2: You see that most of the equipment—more than 50%—does not operate as it should, but poses no safety risk.

Level 3: You see equipment that poses a threat to safety and could cause injury.

Deteriorated Play Area Surface (Play Areas and Equipment)

Deficiency: You see damage to a play area cused by cracking, heaving, settling, ponding, potholes, loose materials, erosion, rutting, etc.

Level of Deficiency:

Level 1: N/A

Level 2: 20-50% of the total surveyed play area surface shows deterioration.

Level 3: More than 50% of the surveyed play are surface shows deterioration:

Comments

Level 3: If the play area surface could cause tripping or falling, you must manually record this deficiency as “Health and Safety: Hazards.”

Refuse Disposal (Site)

Collection areas for trash/garbage common pick-up.

This inspectable item can have the following deficiency:

Broken/Damaged Enclosure-Inadequate Outside Storage Space

Broken/Damaged Enclosure-Inadequate Outside Storage Space (Refuse Disposal)

Deficiency: The outdoor enclosed area used as a trash/refuse site is:

—broken or damaged, including the walls -OR-

—too small to property store refuse until disposal

Note: This does not include areas that are not designed as trash/refuse enclosures, such as curb pick-up. Address the condition of the slab under Parking Lots/Driveways/Roads.

Level of Deficiency:

Level 1: N/A

Level 2: A single wall or gate of the enclosure has collapsed or is leaning and is in danger of falling.

-OR-

Trash cannot be stored in the designated area because it is too small to store refuse until disposal.

Level 3: N/A

Retaining Walls (Site)

A wall built to support or prevent the advance of a mass of earth or water.

This inspectable item can have the following deficiency:

Damaged/Falling/Leaning

Damaged/Falling/Leaning (Retaining Walls)

Deficiency: A retaining wall structure is deteriorated, damaged, falling, or leaning.

Level of Deficiency:

Level 1: N/A

Level 2: A retaining wall shows some signs of deterioration, but it still functions as it should, and it is not a safety risk.

Level 3: A retaining wall is damaged and does not function as it should or is a safety risk.

Storm Drainage (Site)

System used to collect and dispose of surface runoff water through the use of culverts, underground structures, or natural drainage features, e.g., swales, ditches, etc.

This inspectable item can have the following deficiency:

Damaged/Obstructed

Damaged/Obstructed (Storm Drainage)

Deficiency: If the storm drains are structurally unsound, are blocked by accumulated debris, or present other safety hazards.

Level of Deficiency:

Level 1: N/A.

Level 2: The system is partially blocked by a large quantity of debris, causing backup into adjacent area(s).

Level 3: The system is completely blocked or a large segment of the system has failed because a large quantity of debris has caused:

—backups into adjacent area(s)

-OR-

—runoffs into areas where runoffs are not intended

Walkways/Steps (Site)

Passages for walking and the structures that allow for changes in vertical orientation.

This inspectable item can have the following deficiencies:

Broken/Missing Hand Railing

Cracks/Settlement/Heaving

Spalling

Broken/Missing Hand Railing (Walkways/Steps)

Deficiency: The hand rail is damaged or missing.

Level of Deficiency:

Level 1: N/A

Level 2: N/A

Level 3: The hand rail for four or more stairs is missing, damaged, loose, or otherwise unusable.

Cracks/Settlement/Heaving (Walkways/Steps)

Deficiency:

—visible faults in the pavement: longitudinal, lateral, alligator, etc.

-OR-

—pavement that sinks or rises because of the failure of subbase materials

Note:

1. Do not include cracks on parking lots/driveways or roads.

2. For this to be a level 2 deficiency, 5% of the walkways must be impacted—50 out of 1,000 square feet, for example.

3. Relief joints are there by design; do not consider them cracks.

4. When observing traffic ability, consider the capacity to support pedestrians, wheelchairs, and people using walkers.

Level of Deficiency:

Level 1: N/A

Level 2: Cracks greater than ¾″, hinging/titling, or missing section(s) that affect traffic ability over more than 5% of the property's walkways/steps.

Level 3: N/A

Comments

Level 2: If the walkways or steps could cause tripping or falling, you must manually record this deficiency as “Health and Safety: Hazards.”

Spalling (Walkways/Steps)

Deficiency: A concrete or masonry walkway is flaking, chipping, or crumbling—possibly exposing underlying reinforcing material. This is a defect if 5% or more of the property's walkways/steps are affected (50 square feet out of 1,000 square feet, for example).

Note: When observing traffic ability, consider the capacity to support people on foot, in wheelchairs, and using walkers.

Level of Deficiency:

Level 1: More than 5% of the walkway/steps have small areas of spalling—4 inches or less.

Level 2: More than 5% of the walkway/steps have large areas of spalling—larger than 4 inches by 4 inches—and this affects traffic ability.

Level 3: N/A

Building Exterior Inspectable Items

Items to inpect for “Building Exterior” are as follows:

• Doors

• FHEO

• Fire Escapes

• Foundations

• Lighting

• Roofs

• Walls

• Windows

Doors (Building Exterior)

Means of access to the interior of a building or structure. Doors provide privacy, control passage, maintain security, provide fire and weather resistance. Includes entry to maintenance areas, boiler and mechanical rooms, electrical vaults, storage areas, etc.

Note: This does not include unit doors.

This inspectable item can have the following deficiencies:

Damaged Frames/Threshold/Lintels/Trim

Damaged Hardware/Locks

Damaged Surface (Holes/Paint/Rusting/Glass)

Damaged/Missing Screen/Storm/Security Door

Deteriorated/Missing Caulking/Seals

Missing Door

Damaged Frames/Threshold/Lintels/Trim (Doors)

Deficiency: You see a frame, header, jamb, threshold, lintel, or trim that is warped, split, cracked, or broken.

Note: If you see damage to a door's hardware—locks, hinges, etc.—record this under “Doors-Damage Hardware/Locks”.

Level of Deficiency:

Level 1: N/A

Level 2: At least one door is not functioning or cannot be locked because of damage to the frame, threshold, lintel, or trim.

Level 3: At least one entry door or fire/emergency door is not functioning or cannot be locked because of damage to the frame, threshold, lintel, or trim.

Comments

Level 3: If the condition is a health and safety concern, you must record it manually as “Health and Safety: Hazards.”

Damaged Hardware/Locks (Doors)

Deficiency: The attachments to a door that provide hinging, hanging, opening, closing, or security are damaged or missing. These include locks, panic hardware, overhead door tracks, springs and pulleys, sliding door tracks and hangers, and door closures.

Note:

1. If a door is designed to have locks, the locks should work.

2. If a door is designed to have locks, do not record a deficiency for not having a lock.

Level of Deficiency:

Level 1: N/A

Level 2: One door does not function as it should or cannot be locked because of damage to the door's hardware.

Level 3: One door's panic hardware does not function as it should.

-OR-

One entry door or fire/emergency door does not function as it should or cannot be locked because of damage to the door's hardware.

Comments

Level 3: If the condition is a health and safety concern, you must record it manually as “Health and Safety: Hazards”

Damaged Surface (Holes/Paint/Rusting/Glass) (Doors)

Deficiency: You see damage to the door surface that:

—may affect either the surface protection or the strength of the door

-OR-

—may compromise building security

This includes holes, peeling/cracking/no paint, broken glass, and significant rust.

Level of Deficiency:

Level 1: N/A

Level 2: One door has a hole or holes with a diameter ranging from ¼ inch to 1 inch.

Level 3: One door has a hole or holes larger than 1 inch in diameter, significant peeling/cracking/no paint, rust that affects the integrity of the door surface, or broken/missing glass.

-OR-

One entry door or fire/emergency door has a hole or holes with a diameter ranging from ¼ inch to 1 inch.

Damaged/Missing Screen/Storm/Security Door (Doors)

Deficiency: You see damage to surfaces, including screens, glass, frames, hardware, and door surfaces.

Level of Deficiency:

Level 1: At least one screen door or storm door is damaged or is missing screens or glass—shown by an empty frame or frames.

Level 2: N/A

Level 3: A security door is not functioning or missing. (“Missing” applies only if a security door that should be there is not there.)

Deteriorated/Missing Caulking/Seals (Doors)

Deficiency: Sealant and stripping designed to resist weather or caulking is missing or deteriorated.

Note: This applies only to entry doors that were designed with seals. If a door shows evidence that a seal was never part of its design, do not record a deficiency.

Level of Deficiency:

Level 1: N/A

Level 2: N/A

Level 3: The seals/caulking is missing on one entry door, or they are so damaged that they do not function as they should.

Missing Door (Doors)

Deficiency: A door is missing.

Level of Deficiency:

Level 1: N/A

Level 2: N/A

Level 3: A single missing building exterior door is a Level 3 deficiency.

Comments

Level 3: If the condition is a health and safety concern, you must record it manually as “Health and Safety: Hazards.”

FHEO—32″ Wide Main Entrance (Building Exterior)

Main Entrance Less Than 32″ Wide (FHEO—32″ Wide Main Entrance)

Deficiency: Verify that the main entrance for each building inspected is at least 32″ wide, measured from between the face of the door and the opposite door stop.

Level of Deficiency:

Level 1: N/A

Level 2: N/A

Level 3: The distance between the face of the door and the opposite doorstop is not 32″ wide.

FHEO—Accessibility to Main Floor Entrance (Building Exterior)

Obstructed or Missing Accessibility Route (FHEO—Accessibility to Main Floor Entrance)

Deficiency: Verify that there is an accessible route to and from the main ground floor entrance for every building inspected. Accessible routes include level surface to the door, ramps, etc.

Level of Deficiency:

Level 1: N/A

Level 2: N/A

Level 3: There is not an accessible route.

Fire Escapes (Building Exterior)

All buildings must have acceptable fire exits. This includes both stairway access doors & external exits. These can include external fire escapes, fire towers, operable windows on the lower floors with easy access to the ground or a back door opening onto a porch with a stairway leading to the ground.

Blocked Egress/Ladders

Visibly Missing Components

Blocked Egress/Ladders (Fire Escapes)

Deficiency: Any part of the fire escape—including ladders—is blocked, limiting or restricting people from exiting.

Note: This includes fire escapes, fire towers, and windows on the ground floor that would be used in an emergency.

Level of Deficiency:

Level 1: N/A

Level 2: N/A

Level 3: Stored items or other barriers or block people from exiting.

Visibly Missing Components (Fire Escapes)

Deficiency: You see that any of the components that affect the function of the fire escape are missing.

Level of Deficiency:

Level 1: N/A

Level 2: N/A

Level 3: You see that any of the functional components that affect the function of the fire escape—one section of a ladder or a railing, for example—are missing.

Foundations (Building Exterior)

Lowest level structural wall or floor responsible for transferring the building's load to the appropriate footings and soil. Materials may include concrete, stone, masonry and wood.

This inspectable item can have the following deficiencies:

Cracks/Gaps

Spalling/Exposed Rebar

Cracks/Gaps (Foundations)

Deficiency: You see a split in the exterior of the lowest structural wall.

Note: Cracks that show evidence of water penetration should be evaluated here.

Level of Deficiency:

Level 1: N/A

Level 2: You see cracks more than ⅛ inch wide by ⅛ inch deep by 6 inches long.

-OR-

You see large pieces—many bricks, for example—that are separated or missing from the wall or floor.

Level 3: You see large cracks or gaps more than ⅜ inch wide by ⅜ inch deep by 6 inches long—a possible sign of a serious structural problem.

-OR-

You see cracks that are the full depth of the wall, providing opportunity for water penetration.

-OR-

You see sections of the wall or floor that are broken apart.

Comments

Level 3: If you have any doubt about the severity of the problem, request an inspection by a structural engineer.

Spalling/Exposed Rebar (Foundations)

Deficiency: A concrete or masonry wall is flaking, chipping, or crumbling—possibly exposing underlying reinforcing material (rebar).

Level of Deficiency:

Level 1: N/A

Level 2: You see obvious, large spalled area(s) affecting 10-50% of any foundation wall.

Level 3: You see obvious, significant spalled area(s) affecting 50% or more of any foundation wall.

-OR-

You see spalling that exposes any reinforcing material—rebar or other.

Comments

Level 3: If you have any doubt about the severity of the problem, request an inspection by a structural engineer.

Lighting (Building Exterior)

System to provide illumination of building exteriors and surrounding grounds. Includes fixtures, lamps, stanchions, poles, supports, and electrical supply that are associated with the building itself.

Note: This does not include site lighting.

This inspectable items can have the following deficiency:

Broken Fixtures/Bulbs

Broken Fixtures/Bulbs (Lighting)

Deficiency: This covers all or part of the lighting associated with the building, including lighting attached to the building used to light the site. If you see lighting that is not directly attached to a specific building, assign it to the nearest building.

Note: If a damaged fixture or bulb presents a safety hazard, rate it as Level 3, and record it manually as a health and safety concern. This includes broken fixtures and bulbs that could fall on pedestrians or could lead to electrocution.

Level of Deficiency:

Level 1: N/A

Level 2: 20-50% of the lighting fixtures and bulbs surveyed are broken or missing, but this does not constitute an obvious safety hazard.

Level 3: More than 50% of the lighting fixtures and bulbs surveyed are broken or missing.

-OR-

The condition constitutes an obvious safety hazard.

Comments

Level 3: If the condition is a health and safety concern, you must record it manually in “Health and Safety Hazards: Electrical Hazards.”

Roofs (Building Exterior)

Roof system consists of the structural deck, weathering surface, flashing, parapet, and drainage system. They may be flat or pitched.

This inspectable item can have the following deficiencies:

Damaged/Clogged Drains

Damaged Soffits/Fascia

Damaged Vents

Damaged/Torn Membrane/Missing Ballast

Missing/Damaged Components from Downspout/Gutter

Missing/Damaged Shingles

Ponding (Roofs)

Damaged/Clogged Drains (Roofs)

Deficiency: The drainage system does not effectively remove water. Generally, this deficiency applies to flat roofs.

Note:

1. This does not include gutters and downspouts. For these, see “Building Exterior—Roofs—Missing Components from Downspouts/Gutters”.

2. If these has been measurable precipitation (⅒ inch or more) during the previous 48 hours, consider the impact on the extent of the ponding. Determine that ponding has occurred only when there is clear evidence of a persistent or long-standing problem.

Level of Deficiency:

Level 1: N/A

Level 2: You see debris around or in a drain, but no evidence of ponding.

-OR-

The drain is damaged or partially clogged with debris, but the drain system still functions and you see no evidence of ponding.

Level 3: The drain is so damaged or clogged with debris that the drain no longer functions—as shown by ponding.

Comments

Level 3: If you have any doubt about the severity of the condition, an inspection by a roofing specialists is recommended.

Damaged Soffits/Fascia (Roofs)

Deficiency: You see damage to soffit fascia, soffit vents, or associated components that may provide opportunity for water penetration or other damage from natural elements.

Level of Deficiency:

Level 1: You see damage to soffits or fascia, but no obvious opportunities for water penetration.

Level 2: N/A

Level 3: Soffits or fascia that should be there are missing or so damaged that water penetration is visibly possible.

Comments

Level 3: If you have any doubt about the severity of the condition, an inspection by a roofing specialist is recommended.

Damaged Vents (Roofs)

Deficiency: Damaged vents on or extending through the roof surface or components are damaged or missing. Vents include ridge vents, gable vents, plumbing vents, gas vents, and other.

Note: This does not include exhaust fans on the roof or soffit vents:

—Exhaust fans are covered under “Building Systems—Exhaust.”

—Soffit vents are covered under “Roofs-Damaged Soffits/Fascia.”

Level of Deficiency:

Level 1: The vents are visibly damaged, but do not present an obvious risk to promote further roof damage.

Level 2: N/A

Level 3: Vents are missing or so visibly damaged that further roof damage is possible.

Damaged/Torn Membrane/Missing Ballast (Roofs)

Defiency: In the membrane or flashing, you see a rip or tear—including punctures, holes, cracks, blistering, and separated seams. PVC, rubber, bitumen, and similar materials are all subject to tears and punctures.

Level of Deficiency:

Level 1: N/A

Level 2: Ballast has shifted and no longer functions as it should.

Level 3: You see signs of damage to the membrane that may result in water penetration.

Comments

Level 3: If the condition warrants further inspection, inspection by a roofing specialist is recommended.

Missing/Damaged Components From Downspout/Gutter (Roofs)

Deficiency: You see that components of the drainage system—including gutters, leaders, downspouts, splashblocks, and drain openings—are missing or damaged.

Note: This does not include clogged drains, For clogged drains, see “Building Exterior—Roofs—Clogged Drains.”

Level of Deficiency:

Level 1: Splashblocks are missing or damaged.

Level 2: You see that drainage system components are missing or damaged, but there is no visible damage to the roof, structure, exterior wall surface, or interior.

Level 3: You see that drainage system components are missing or damaged, causing visible damage to the roof, structure, exterior wall surface, or interior.

Missing/Damaged Shingles (Roofs)

Deficiency: Shingles are missing or damaged, including cracking, warping, cupping, and other deterioration.

Note: A square is 100 square feet.

Level of Deficiency:

Level 1: Up to one square material or shingles is missing from roof areas you survey.

Level 2: One to two squares of surface material or shingles are missing from surveyed roof areas.

Level 3: More than two squares of shingles are missing from surveyed roofing areas.

Comments

Level 3: If you have any doubt about the severity of the condition, an inspection by a roofing specialist is recommended.

Ponding (Roofs)

Deficiency: You see evidence of areas of standing water—roof depression, mold ring, or effervescence water ring.

Note: If there has been measurable precipitation (⅒ inch or more) during the previous 48 hours, consider the impact on the extent of the ponding. Determine that ponding has occurred only when there is clear evidence of a persistent of long-standing problem.

Level of Deficiency:

Level 1: N/A

Level 2: N/A

Level 3: You see evidence of standing water on the roof, causing potential or visible damage to roof surface or underlying materials.

Comments

Level 3: If you have any doubt of the severity of the condition, an inspection by a roofing specialist is recommended.

Walls (Building Exterior)

The exterior enclosure of the building or structure. Materials for construction include concrete, masonry block, brick, stone, wood, glass block. Surface finish materials include metal, wood, vinyl, stucco.

Note: This does not include foundation walls.

This inspectable item can have the following deficiencies:

Cracks/Gaps

Damaged Chimneys

Missing Pieces/Holes/Spalling

Missing/Damaged Caulking/Mortar

Stained/Peeling/Needs Paint

Cracks/Gaps (Walls)

Deficiency: You see a split, separation, or gap in the exterior walls.

Note: If you see both cracks/gaps and missing pieces/holes/spalling, do not record both. If you see both deficiencies, record only one of the two.

Level of Deficiency:

Level 1: N/A

Level 2: You see a crack that is more than ⅛ inch deep by 6 inches long.

-OR-

You see pieces—many bricks, for example that are separated from the wall.

Level 3: You see a large crack or gap that is more than ⅜ inch wide or deep and 6 inches long, possibly a sign of a serious structural problem.

-OR-

You see a crack that is the full depth of the wall, providing opportunity for water penetration.

-OR-

You see sections of the wall that are broken apart.

Comments

Level 3: If you have any doubt of the severity of the condition, request an inspection by a structural engineer.

Damaged Chimneys (Walls)

Deficiency: The chimney, including the part that extends above the roof line, has separated from the wall or has cracks, spalling, missing pieces, or broken sections.

Level of Deficiency:

Level 1: N/A

Level 2: The surface of the chimney shows surface damage or more than one piece of wall—a few bricks or a section of siding, for example.

-OR-

The surface of the chimney has holes that affect an area larger than 4 inches by 4 inches.

Level 3: Part or all of the chimney has visibly separated from the adjacent wall.

-OR-

There are cracked or fallen pieces or sections.

-OR-

There is a risk that falling pieces could create a safety hazard.

Comments

Level 3: If the conditions is a health and safety concern, you must record it manually as “Health and Safety Hazards.”

Missing Pieces/Holes/Spalling (Walls)

Deficiency: You see deterioration of the exterior wall surface, including missing pieces, holes, or spalling. This may also be attributed to:

—materials that are rotting

-OR-

—a concrete, stucco, or masonry wall that is flaking, chipping, or crumbling

Level of Deficiency:

Level 1: N/A

Level 2: You see that there is a missing piece—a single brick or section of siding, for example—or a hole larger than ½ inch in diameter.

-OR-

You see deterioration that affects an area up to 8½ inches by 11 inches.

Level 3: You see deterioration that exposes any reinforcing material (re-bar).

-OR-

You see more than one missing piece—a few bricks or a section of siding, for example—or holes that affect an area larger than 8½ inches by 11 inches.

-OR-

You see a hole of any size that completely penetrates the exterior wall.

Comments

Level 3: If you have any doubt about the severity of the condition, request an inspection by a structural engineer.

Missing/Damaged Caulking/Mortar (Walls)

Deficiency: Caulking designed to resist weather or mortar is missing or deteriorated.

Note: This does not include caulking relative to doors and windows; they are covered in other areas. Address all other caulking here.

Level of Deficiency:

Level 1: Mortar is missing around a single masonry unit.

-OR-

Deteriorated caulk is confined to less than 12 inches.

Level 2: Mortar is missing around more than one contiguous masonry unit.

-OR-

You see deteriorated caulking in an area longer than 12 inches.

Level 3: N/A

Stained/Peeling/Needs Paint (Walls)

Deficiency: Paint is cracking, flaking, or otherwise deteriorated. Water damage or related problems have stained the paint.

Note: This does not include walls that are not intended to have paint, such as most brick walls, etc.

Level of Deficiency:

Level 1: You observe that less than 50% of a single building exterior wall is affected.

Level 2: You observe that more than 50% of a single building exterior wall is affected.

Level 3: N/A

Windows (Building Exterior)

Window systems provide light, security, and exclusion of exterior noise, dust, heat, and cold. Frame materials include wood, aluminum, vinyl, etc.

Note: This does not include windows that have defects noted from inspection from inside the unit.

This inspectable item can have the following deficiencies:

Broken/Missing/Cracked Panes

Damaged/Missing Screens

Damaged Sills/Frames/Lintels/Trim

Missing/Deteriorated Caulking/Seals/Glazing Compound

Peeling/Needs paint

Security Bars Prevent Egress

Broken/Missing/Cracked Panes (Windows)

Deficiency: A glass pane is broken, missing, or cracked.

Level of Deficiency:

Level 1: A glass pane is cracked, but you see no sharp edges.

Level 2: N/A

Level 3: A glass pane is missing or broken.

Damaged/Missing Screens (Windows)

Deficiency: Screens are punctured, torn, otherwise damaged, or missing.

Level of Deficiency:

Level 1: Three or more screens in one building are punctured, torn, otherwise damage, or missing.

Level 2: N/A

Level 3: N/A

Damaged Sills/Frames/Lintels/Trim (Windows)

Deficiency: Window sills, frames, sash lintels, or trim are damaged by decay, rust, rot, corrosion, or other deterioration.

Note: Damage does not include scratches and cosmetic deficiencies.

Level of Deficiency:

Level 1: You see damage to sills, frames, lintels, or trim, but nothing is missing. The inside of the surrounding wall is not exposed. You see no impact on either the functioning of the window or weather tightness.

Level 2: Sills, frames, lintels, or trim are missing or damaged, exposing the inside of the surrounding walls and compromising its weather tightness.

Level 3: N/A

(Missing/Deteriorated Caulking/Seals/Glazing Compound (Windows)

Deficiency: The caulking or glazing compound that resists weather is missing or deteriorated.

Note:

1. This also includes Thermopane or insulated windows that have failed.

2. Caulk and seals are considered to be deteriorated when two or more seals for any window have lost their elasticity. (If the seals crumble and flake when touched, they have lost their elasticity.)

Level of Deficiency:

Level 1: N/A

Level 2: Most of the window shows missing or deteriorated caulk or glazing compound, but there is no evidence of damage to the window or surrounding structure.

Level 3: There are missing or deteriorated caulk or seals—with evidence of leaks or damage to the window or surrounding structure.

Peeling/Needs Paint (Windows)

Deficiency:

—Paint covering the window assembly or trim is cracking, flaking, or otherwise failing.

-OR-

—The window assembly or trim is not painted or is exposed to the elements.

Note: This does not include windows that are not intended to be painted.

Level of Deficiency:

Level 1: You see peeling paint or a window that needs paint.

Level 2: N/A

Level 3: N/A

Security Bars Prevent Egress (Windows)

Deficiency: Exiting (egress) is severely limited or impossible, because security bars are damaged or improperly constructed or installed.

Note: This does not include windows that are not intended for exiting.

Level of Deficiency:

Level 1: N/A

Level 2: N/A

Level 3: The ability to exit through the window is limited by security bars that do not function properly and, therefore, pose safety risks.

Building Systems Inspectable Items

Items to inspect for “Building Systems” are as follows:

• Domestic Water

• Electrical System

• Elevators

• Emergency Power

• Exhaust System

• Fire Protection

• HVAC

• Sanitary System

Domestic Water (Building Systems)

Portion of the building system that provides potable water conditioning, heating, and distribution taking its source from outside the building and terminating in domestic plumbing fixtures. The system typically consists of water conditioners (filters and softeners), water heaters, transfer and circulating pumps, strainers, and connecting piping, fittings, valves, and supports.

Note: This does not include portion of water supply that connects to the heating and cooling system. Also, the delivery points of the system such as sinks and faucets in units or common areas.

This inspectable item can have the following deficiencies:

Leaking Central Water Supply

Misaligned/Damaged Ventilation System

Missing Pressure Relief Valve

Rust/Corrosion on Heater Chimney

Water Supply Inoperable

Leaking Central Water Supply (Domestic Water)

Deficiency: You see water leaking from any water system component, including valve flanges, stems, bodies, hose bids, or any domestic water tank or its pipe or pipe connections.

Note:

1. This includes both hot and cold water systems, but does not include fixtures. Address fixtures in dwelling units or common areas.

2. Some pumps and valves are designed to leak as a normal function, particularly in fire pumps, water pressure pumps, and large circulating pumps, and should be considered accordingly.

Level of Deficiency:

Level 1: N/A

Level 2: N/A

Level 3: You see that water is leaking.

Comments

Level 4: If leading water is a health and safety concern (i.e., is leaking on or near electrical equipment), you must record it manually in “Health and Safety Electrical Hazards.”

Misaligned Chimney/Ventilation System (Domestic Water)

Deficiency: The ventilation system on a gas-fired or oil-fired water heater is misaligned.

Level of Deficiency:

Level 1: N/A

Level 2: N/A

Level 1: You see any misalignment that may cause improper or dangerous venting of exhaust gases.

Missing Pressure Relief Valve (Domestic Water)

Deficiency: The pressure relief valve on the central hot water heating system is missing or does not extend to the floor.

Level of Deficiency:

Level 1: N/A

Level 2: N/A

Level 3: There is not pressure relief valve.

-OR-

The pressure relief valve does not extend to the floor.

Rust/Corrosion on Heater Chimney (Domestic Water)

Deficiency: The water heater chimney shows evidence of flaking, discoloration, pitting, or crevices.

Level of Deficiency:

Level 1: N/A

Level 2: N/A

Level 3: The water heater chimney shows evidence of flaking, discoloration, pitting, or crevices that may create holes that could allow toxic gases to leak from the chimney.

Water Supply Inoperable (Domestic Water)

Deficiency: Water is not available.

Level of Deficiency:

Level 1: N/A

Level 2: N/A

Level 3: There is no running water in any area of the building.

Electrical System (Building Systems)

Portion of the building system that safety provides electrical power throughout the building. Including equipment that provides control, protection, metering, and service.

Note: This does not include transformers or metering that belongs to the providing utility. Equipment that is part of any emergency power generating system. Terminal equipment such as receptacles, switches, or panelboards that are located in the units or common areas.

This inspectable item can have the following deficiencies:

Blocked Access/Improper Storage

Burnt Breakers

Evidence of Leaks/Corrosion

Frayed Wiring

Missing Breakers/Fuses

Missing Covers

Blocked Access/Improper Storage (Electrical System)

Deficiency: A fixed obstruction or item of sufficient size and weight can delay or prevent access to any panel board or main power switch in an emergency.

Note: If the panel board or main power switch is locked but authorized personnel can quickly gain access, do not record it as a deficiency.

Level of Deficiency:

Level 1: N/A

Level 2: N/A

Level 3: One or more fixed items or items of sufficient size and weight impede access to the building system's electrical panel during an emergency.

Comments

Level 3: If the condition is a Health and Safety concern, you must record it manually as “Health and Safety: Flammable Materials.”

Burnt Breakers (Electrical System)

Deficiency: Breakers have carbon on the plastic body, or the plastic body is melted and scarred.

Level of Deficiency:

Level 1: N/A

Level 2: N/A

Level 3: You see any carbon residue, melted breakers, or arcing scars.

Evidence of Leaks/Corrosion (Electrical System)

Deficiency: You see liquid stains, rust marks, or other signs of corrosion on electrical enclosures or hardware.

Note: Do not consider surface rust a deficiency if it does not affect the condition of the electrical enclosure.

Level of Deficiency:

Level 1: N/A

Level 2: N/A

Level 3: Any corrosion that affects the condition of the components that carry current.

-OR-

Any stains or rust on the interior of electrical enclosures.

-OR-

Any evidence of water leaks in the enclosure or hardware.

Frayed Wiring (Electrical System)

Deficiency: You see nicks, abrasions, or fraying of the insulation that expose wires that conduct current.

Note: Do not consider this a deficiency for wires that are not intended to be insulated, such as grounding wires.

Level of Deficiency:

Level 1: N/A

Level 2: N/A

Level 3: You see any nicks, abrasions, or fraying of the insulation that expose any conducting wire.

Comments

Level 3: If the condition is a Health and Safety concern, you must record it manually as “Health and Safety: Electrical Hazards.”

Missing Breakers/Fuses (Electrical System)

Deficiency: In a panel board, main panel board, or other electrical box containing circuit breakers, you see an open circuit breaker position that is not appropriately blanked off.

Level of Deficiency:

Level 1: N/A

Level 2: N/A

Level 3: You see an open breaker port.

Missing Covers (Electrical System)

Deficiency: The cover is missing from any electrical device box, panel box, switch gear box, or control panel with exposed electrical connections.

Note: If the accompanying authority identifies abandoned wiring, capped wires do not pose a risk; therefore, do not record this as a deficiency.

Level of Deficiency:

Level 1: N/A

Level 2: N/A

Level 3: A cover is missing, which results in exposed visible electrical connections.

Elevators (Building Systems)

Vertical conveyance systems for moving personnel, equipment, materials, household goods, etc.

This inspectable item can have the following deficiency:

Not Operable

Not Operable (Elevators)

Deficiency:

—The elevator will not ascend or descend.

-OR-

—The elevator door will not open or close.

-OR-

—The elevator door opens when the cab is not there.

Note: Some elevators are designed/programmed for special applications—stopping at every floor, for example. For these special cases, the elevator is serving its designed purpose and is therefore not deficient.

Level of Deficiency:

Level 1: N/A

Level 2: N/A

Level 3: The elevator does not function at all.

-OR-

The elevator doors open when the cab is not there.

Emergency Power (Building Systems)

Standby/backup equipment intended to supply illumination or power or both, (battery or generator set) during utility outage.

This inspectable item can have the following deficiencies:

Auxiliary Lighting Inoperable

Run-Up Records/Documentation Not Available

Auxiliary Lighting Inoperable (Emergency Power)

Deficiency: Emergency lighting that provides illumination during power outages does not function as it should.

Level of Deficiency:

Level 1: N/A

Level 2: N/A

Level 3: Auxiliary lighting does not function.

Run-Up Records/Documentation Not Available (Emergency Power)

Deficiency: Records are not properly maintained or available.

Level of Deficiency:

Level 1: N/A

Level 2: Current records—from the last 12 months—are lost, but older records are properly maintained and available.

Level 3: No records are available.

Exhaust System (Building Systems)

The system used to primarily exhaust stale air from the building. Primarily from the kitchen and bathroom areas.

Note: This does not include elements related to the HVAC system.

This inspectable item can have the following deficiencies:

Roof Exhaust Fans Inoperable

Roof Exhaust Fans Inoperable (Exhaust System)

Deficiency: The ventilation system to exhaust kitchen or bathroom air does not function.

Level of Deficiency:

Level 1: N/A

Level 2: N/A

Level 3: The roof exhaust fan unit does not function.

Fire Protection (Building Systems)

Building System designed to minimize the effects of a fire. May include the following: Fire walls and doors portable fire extinguishers, and permanent sprinkler systems.

Note: This does not include fire detection, alarm, and control devices.

This inspectable item can have the following deficiencies:

Missing Sprinkler Head

Missing/Damaged/Expired Extinguishers

Missing Sprinkler Head (Fire Protection)

Deficiency: You see that a sprinkler head—or its components—connected to the central fire protection system is either missing, visibly disabled, painted over, blocked, or capped.

Note: Components include test plugs, drains, and test fittings.

Level of Deficiency:

Level 1: N/A

Level 2: N/A

Level 3: Any sprinkler head is missing, visibly disabled, painted over, blocked, or capped.

Missing/Damaged/Expired Extinguishers (Fire Protection)

Deficiency: A portable fire extinguisher is not where it should be, is damaged, or the extinguisher certification has expired.

Note:

1. This includes missing/damaged fire hoses where there are fire cabinets.

2. For buildings with multiple fire control systems—standpipes, sprinklers, etc.—5% or less of the extinguishers for a given building may be missing, damaged, and/or expired. In such cases do not record as a deficiency.

3. If the inspection tag is missing during the REAC inspection, the accompanying authority may produce proof that the fire extinguisher certification is current. If you see such proof, do not record a deficiency for a missing tag.

Level of Deficiency:

Level 1: For a building with only one fire control system, 5% or less of the fire extinguishers are missing, damaged, or expired.

Level 2: For all buildings, 5-10% of the fire extinguishers are missing, damaged, or expired.

Level 3: For all buildings, more than 10% of the fire extinguishers are missing, damaged, or expired.

-OR-

There is not an operable/non-expired fire extinguisher on each floor.

HVAC (Building Systems)

Portion of the building system that provides ability to heat or cool the air within the building. Includes equipment such as boilers, burners, furnaces, fuel supply, hot water and steam distribution, and associated piping, filters, and equipment. Also includes air handling equipment and associated ventilation ducting.

This inspectable item can have the following deficiencies:

Boiler/Pump Leaks

Fuel Supply Leaks

Misaligned Chimney/Ventilation System

General Rust/Corrosion

Boiler/Pump Leaks (HVAC)

Deficiency: Water or steam is escaping from unit casing or system piping.

Note:

1. This does not include fuel supply leaks. See Building Systems—HVAC fuel supply leaks.

2. Also, do not include steam escaping from pressure relief valves.

Level of Deficiency:

Level 1: You see water or steam leaking in piping or pump packing.

Level 2: N/A

Level 3: Water or steam is leaking in piping or pump packing to the point that the system or pumps should be shut down.

Comments

Level 3: If the condition is a Health and Safety concern, you must record it manually as “Health and Safety; Hazards.”

Fuel Supply Leaks (HVAC)

Deficiency: There is evidence that fuel is escaping from a fuel storage tank or fuel line.

Level of Deficiency:

Level 1: N/A

Level 2: N/A

Level 3: Any amount of fuel is leaking from the supply tank or piping.

Misaligned Chimney/Ventilation System (HVAC)

Deficiency: The exhaust system on a gas-fired or oil-fired unit is misaligned.

Level of Deficiency:

Level 1: N/A

Level 2: N/A

Level 3: You see a misalignment of an exhaust system on a gas-fired or oil-fired unit that cause improper or dangerous venting of gases.

General Rust/Corrosion (HVAC)

Deficiency: The equipment or associated piping and ducting shows evidence of flaking, discoloration, pitting, or crevices.

Level of Deficiency:

Level 1: N/A

Level 2: You see significant formations of metal oxides, significant flaking, discoloration, or the development of a noticeable pit or crevice.

Level 3: The equipment or piping does not function because of this condition.

Comments

Level 3: If the condition is a health and safety concern, you must record it as “Health and Safety; Hazards.”

Sanitary System (Building Systems)

Portion of the building system that provides for the disposal of waste products with discharge to the local sewage system. Can include sources such as domestic plumbing fixtures, floor drains, and other drains. Consists of floor drains and traps, collection sumps, sewage ejectors, sewage pumps, and collection piping, fittings, valves, and supports.

Note: This does not include site storm drainage. Refer to Site—Storm Drainage.

This inspectable item can have the following deficiencies:

Broken/Leaking/Clogged Pipes or Drains (Sanitary Systems)

Missing Drain/Cleanout/Manhole Covers

Broken/Leaking/Clogged Pipes or Drains (Sanitary System)

Deficiency: You see that a drain is clogged or that components of the sanitary system are leaking.

Level of Deficiency:

Level 1: N/A

Level 2: N/A

Level 3: You see active leaks in or around the system components.

-OR-

You see evidence of standing water, puddles, or ponding—a sign of leaks or clogged drains.

Missing Drain/Cleanout/Manhole Covers (Sanitary System)

Deficiency: You see that a protective cover is missing.

Note: This also includes covers you see while walking the site.

Level of Deficiency:

Level 1: N/A

Level 2: N/A

Level 3: A protective cover is missing.

Comments

Level 3: If the condition is a health and safety concern, you must record it manually as “Health and Safety: Air Quality.”

Common Areas Inspectable Items

Items to inspect for “Common Areas” are as follows:

Basement/Garage/Carport (Common Areas)

Basement: the lowest habitable story of a building, usually below ground level. Garage: a building or wing of a building in which to park a car.

Carport: a roof projecting from the side of a building or free standing, used to shelter an automobile.

Closet/Utility/Mechanical (Common Areas)

An enclosed room or closet housing machines and/or equipment that service the building.

Community Room (Common Areas)

Meeting place used by members of a community for social, cultural, or recreational purposes.

Day Care (Common Area)

Place that provides daytime supervision, training, and medical services for preschool children or for the elderly.

Halls/Corridors/Stairs (Common Areas)

Passageway in a building, which organizes its rooms, apartments and staircases.

Kitchen (Common Areas)

A place where food is cooked or prepared. The facilities and equipment used in preparing and serving food.

Laundry Room (Common Areas)

Place where soiled clothes and linens or washed and/or dried.

Lobby (Common Areas)

A foyer, hall, or waiting room at or near the entrance of a building.

Office (Common Areas)

Place in which business, professional, or clerical activities are conducted.

Other Community Spaces (Common Areas)

Patio/Porch/Balcony (Common Areas)

Covered entrance to a building, usually with a separate roof or a recreation area that adjoins common areas.

Pools and Related Structures (Common Areas)

Swimming pools and related structures including fencing, etc.

Restrooms/Pool Structures (Common Areas)

A room equipped with a water closet or toilet, tub and/or shower, sink, cabinet(s) and/or closet. This includes locker rooms or bathhouses associated with swimming pools.

Storage (Common Areas)

A room in which items are kept for future use.

Trash Collection Areas (Common Areas)

Collection areas for trash/garbage common pick-up.

Outlets/Switches/Cover Plates (Common Areas)

The receptacle connected to a power supply or method to control the flow of electricity. Includes two & three prong outlets, ground fault interrupters, pull cords, two & three pole switches, and dinner switches.

Smoke Detector (Common Areas)

Sensor to detect the presence of smoke and activate an alarm. May be battery operated or hard-wired to electrical system. May provide visual signal, audible signal, or both.

Call-for-Aid (Common Areas)

System to summon help. May be visual, audible, or both. May be activated manually or automatically when pre-programmed conditions are met.

This inspectable item can have the following deficiency:

Inoperable

Call-for-Aid—Inoperable (Common Areas)

Deficiency: The system does not function as it should.

Level of Deficiency:

Level 1: N/A

Level 2: N/A

Level 3: The system does not function as it should.

Ceiling (Common Areas)

The visible overhead structure lining the inside of a room or area.

This inspectable item can have the following deficiencies:

Bulging/Buckling

Holes/Missing Tiles/Panels/Cracks

Peeling/Needs Paint

Water Stains/Water Damage/Mold/Mildew

Ceiling—Bulging/Buckling (Common Areas)

Deficiency: A ceiling is bowed, deflected, sagging, or is no longer aligned horizontally.

Level of Deficiency:

Level 1: N/A

Level 2: N/A

Level 3: You see bulging, buckling, sagging, or a lack of horizontal alignment.

Comments

Level 3: If you have any doubt the severity of the condition, request an inspection by a structural engineer.

Ceiling—Holes/Missing Tiles/Panels/Cracks (Common Areas)

Deficiency:

—The ceiling surface has punctures that may or may not penetrate completely.

-OR-

—Panels or tiles are missing or damaged.

Level of Deficiency:

Level 1: You see small holes that are not larger than a sheet of paper—8½ inches by 11 inches.

-OR-

No hole penetrates the area above.

-OR-

You see that no more than 3 tiles or panels are missing.

Level 2: You see a hole that is larger than a sheet of paper—8½ inches by 11 inches—but it does not penetrate the area above. (You cannot see through it.)

-OR-

You see that more than 3 tiles or panels are missing.

-OR-

You see a crack more than ⅛ inch wide and 11 inches long.

Level 3: You see a hole that penetrates the area above; you can see through it.

Comments

Level 3: If a hole is a health and safety concern, you must record it manually in “Health and Safety: Hazards.”

Ceiling—Peeling/Needs Paint (Common Areas)

Deficiency: You see paint that is peeling, cracking, flaking, or otherwise deteriorated on ceilings in common areas.

Level of Deficiency:

Level 1: You see peeling paint on 1-4 ceilings in common areas.

Level 2: You see more than 4 ceilings in common areas that have peeling paint or need paint.

Level 3: N/A

Ceiling—Water Stains/Water Damage/Mold/Mildew (Common Areas)

Deficiency: You see evidence of water infiltration, mold, or mildew that may have been caused by saturation or surface failure.

Level of Deficiency:

Level 1: On one ceiling, you see evidence of a leak, mold, or mildew—such as a darkened area—over a small area (more than 1 square foot but less than 4 square feet). You estimate that less than 10% of the ceiling surface area is affected. You may or may not see water.

Level 2: On one ceiling, you see evidence of a leak mold or mildew—such as a darkened area—over a large area (more than 4 square feet). You may or may not see water.

-OR-

You estimate that 10-50% of the ceiling area has

Level 1 damage.

Level 3: On one ceiling, you estimate that a large portion—50% of its surface—has been substantially saturated or damaged by water, mold, or mildew. You see cracks, moist areas, mold, or mildew.

The ceiling surface may have failed.

-OR-

You estimate that more than 50% of the ceiling area shows Level 1 damage from stains, mold, or mildew.

Comments

Level 3: If the condition is a health and safety concern, you must record it manually in “Health and Safety: Air Quality.”

Doors (Common Areas)

Means of access to the interior of a unit. Doors provide privacy and security, control passage, provide fire and weather resistance.

This inspectable item can have the following deficiencies:

Damage Frames/Threshold/Lintels/Trim

Damaged Hardware/Locks

Damaged/Missing Screen/Storm/Security Door

Damaged Surface—Holes/Paint/Rusting/Glass

Deteriorated/Missing Seals (Entry Door—

Missing Door

Doors—Damaged Frames/Threshold/Lintels/Trim (Common Areas)

Deficiency: You see a frame, header, jamb, threshold, lintel, or trim that is warped, split, cracked, or broken.

Note: If you see damage to a door's hardware—locks, hinges, etc.—record this under “Doors-Damage Hardware/Locks”.

Level of Deficiency:

Level 1: N/A.

Level 2: At least one door is not functioning or cannot be locked because of damage to the frame, threshold, lintel, or trim.

Level 3: At least one restroom door, entry door, or fire is not functioning or cannot be locked because of damage to the frame, threshold, lintel, or trim.

Comments

Level 3: If the condition is a health and safety concern, you must record it manually as “Health and Safety: Hazards.”

Doors—Damaged Hardware/Locks (Common Areas)

Deficiency: The attachments to a door that provide hinging, hanging, opening, closing, or security are damaged or missing. These include locks, panic hardware, overhead door tracks, springs and pulleys, sliding door tracks and hangers, and door closures.

Note:

1. If a door is designed to have a lock, the lock should work. If a door is designed without locks, do not record it as a deficiency.

2. If a lock has been removed from an interior door, do not record this as a deficiency.

3. 504 units have had locks removed. Before you start the inspection, you should be given a list of units relative to 504/FH/ADA. Do not record these missing locks as deficiencies.

Level of Deficiency:

Level 1: A closet door does not function as it should because of damage to the door's hardware.

-OR-

A closet door that requires locking cannot be locked because of damage to the door's hardware.

Level 2: A door does not function as it should because of damage to the door's hardware.

-OR-

A door that requires locking cannot be locked because of damage to the door's hardware.

Level 3: A restroom door, entry door, or fire door does not function as it should because of damage to the door's hardware.

-OR-

A restroom door, entry door, or fire door that requires locking cannot be locked because of damage to the door's hardware.

Doors—Damaged/Missing Screen/Storm/Security Door (Common Areas)

Deficiency: Visible damage to surfaces including screens, glass, frames, hardware, and door surface.

Level of Deficiency:

Level 1: One or more screen/storm doors has damage or door is missing screens/glass as evidenced by empty frame.

Level 2: N/A

Level 3: A single security door is inoperable or missing. (Missing only applies to those situations where a security door is supposed to be present but it observed not to be there.)

Doors—Damaged Surface—Holes/Paint/Rusting/Glass (Common Areas)

Deficiency: You see damage to the door surface that:

—may affect either the surface protection or the strength of the door

-OR-

—May compromise building security

This includes holes, peeling/cracking/no paint, broken glass, and significant rust.

Note: If the door is a restroom, fire door, or entry door, this is a Level 3 deficiency.

Level of Deficiency:

Level 1: N/A

Level 2: One door has a hole or holes with a diameter ranging from ¼ inch to 1 inch.

Level 3: One door has a hole or holes larger than 1 inch in diameter, significant peeling/cracking/no paint, rust that affects the integrity of the door surface, or broken/missing glass.

Comments

Level 3: If the condition is a health and safety concern, you must record it manually in “Health and Safety: Hazards.”

Doors—Deteriorated/Missing Seals (Entry Only) (Common Areas)

Deficiency: The seals and stripping around the entry door(s) to resist weather and fire are damaged or missing.

Note: This defect applies only to entry doors that were designed with seals. If a door shows evidence that a seal was never part of its design, do not record it as a deficiency.

Level of Deficiency:

Level 1: N/A

Level 2: N/A

Level 3: The seals are missing on one entry door, or they are so damaged that they do not function as they should.

Doors—Missing Door (Common Areas)

Deficiency: A door is missing.

Note: If a restroom door, entry door, or fire door, record this as a Level 3 deficiency.

Level of Deficiency:

Level 1: A door is missing, but it is not a restroom door, entry door, or fire door.

Level 2: Two doors or up to 50% of the doors are missing, but they are not restroom doors, entry doors, or fire doors, and the condition presents no hazard.

Level 3: A restroom door, entry door, or fire door is missing.

-OR-

You estimate that more than 50% of the doors are missing.

Comments

Level 3: If the condition is a health and safety concern, you must record it manually as “Health and Safety: Hazards.”

Electrical (Common Areas)

Portion of the common area that safely provides electrical power throughout the building. Including equipment that provides control, protection, metering, and service.

This inspectable item can have the following deficiencies:

Blocked Access to Electrical Panel

Burnt Breakers

Evidence of Leaks/Corrosion

Frayed Wiring

Missing Breakers

Missing Covers

Electrical—Blocked Access to Electrical Panel (Common Areas)

Deficiency: A fixed obstruction or item of sufficient size and weight can delay or prevent access to any panel board switch in an emergency.

Note: If you see an item that is easy to remove, like a picture, do not note this as a deficiency.

Level of Deficiency:

Level 1: N/A

Level 2: N/A

Level 3: One or more fixed items or items of sufficient size and weight can impede access to the unit's electrical panel during an emergency.

Electrical—Burnt Breakers (Common Areas)

Deficiency: Breakers have carbon on the plastic body, or the plastic body is melted and scarred.

Level of Deficiency:

Level 1: N/A

Level 2: N/A

Level 3: You see any carbon residue, melted breakers, or arcing scars.

Electrical—Evidence of Leaks/Corrosion (Common Areas)

Deficiency: You see liquid stains, rust marks, or other signs of corrosion on electrical enclosures or hardware.

Note: Do not consider surface rust a deficiency if it does not affect the condition of the electrical enclosure.

Level of Deficiency:

Level 1: N/A

Level 2: N/A

Level 3: Any corrosion that affects the condition of the components that carry current.

-OR-

Any stains or rust on the interior of electrical enclosures.

-OR-

Any evidence of water leaks in the enclosure or hardware.

Electrical—Frayed Wiring (Common Areas)

Deficiency: You see nicks, abrasions, or fraying of the insulation that expose wires that conduct current.

Note: Do not consider this a deficiency for wires that are not insulated, such as grounding wires.

Level of Deficiency:

Level 1: N/A

Level 2: N/A

Level 3: You see any nicks, abrasions, or fraying of the insulation that expose any conducting wire.

Comments

Level 3: If the condition is a health and safety concern, you must record it manually as “Health and Safety: Electrical Hazards.”

Electrical—Missing Breakers (Common Areas)

Deficiency: In a panel board, main panel board, or other electrical box that contains circuit breakers/fuses, you see an open circuit breaker position that is not appropriately blanked-off.

Level of Deficiency:

Level 1: N/A

Level 2: N/A

Level 3: You see an open breaker port.

Electrical—Missing Covers (Common Area)

Deficiency: The cover is missing from any electrical device box, panel box, switch gear box, control panel, etc., with exposed electrical connections.

Note: If an accompanying authority has identified abandoned wiring, capped wires do not pose a risk. Do not record this as a deficiency.

Level of Deficiency:

Level 1: N/A

Level 2: N/A

Level 3: A cover is missing, and you see exposed electrical connections.

FHEO—36″ Wide Interior Hallways (Common Areas)

Multi-story Building Hallways/Common Areas Less Than 36″ Wide (FHEO—36″ Wide Interior Hallways) (Common Areas)

Deficiency: For multi-story buildings that are inspected, verify that the interior hallways to the inspected units and common areas are at least 36″ wide.

Level of Deficiency:

Level 1: N/A

Level 2: N/A

Level 3: The interior hallways are less than 36″ wide.

FHEO—Accessible Outside Common Areas (Common Areas)

Routes Obstructed or Inaccessible to Wheelchair Routes Obstructed or Inaccessible to Wheelchair (FHEO—Accessible Outside Common Areas (Common Areas)

Deficiency: Verify that routes to all outside common areas are accessible to wheelchairs (i.e.; there are curb cuts, ramps, and sufficient (36″) width).

Level of Deficiency:

Level 1: N/A

Level 2: N/A

Level 3: The route is obstructed or not accessible route.

Floors (Common Areas)

The visible horizontal surface system within a room or area underfoot; the horizontal division between two stories of a structure.

This inspectable item can have the following deficiencies:

Bulging/Buckling

Floor Covering Damaged

Missing Flooring/Tiles

Peeling/Needs Paint

Rot/Deteriorated Subfloor

Water Stains/Water Damage/Mold/Mildew

Floors—Bulging/Buckling (Common Areas)

Deficiency: The floor is bowed, deflected, sagging, or is no longer aligned horizontally.

Level of Deficiency:

Level 1: N/A

Level 2: N/A

Level 3: You see bulging, buckling, sagging, or a problem with alignment.

Comments

Level 3: If you have any doubt about the severity of the condition, request an inspection by a structural engineer.

Floors—Floor Covering Damaged (Common Areas)

Deficiency: You see damage to carpet tiles, wood, sheet vinyl, or other floor covering.

Level of Deficiency:

Level 1: You estimate that only 5-10% of the floor covering has stains, surface burns, shallow cuts, small holes, tears, loose areas, or exposed seams. The covering is fully functional, and there is no safety hazard.

Level 2: You estimate that 10-50% of the floor covering has stains, surface burns, shallow cuts, small holes, tears, loose areas, or exposed seams. The covering is fully functional, and there is no safety hazard.

Level 3: For a single floor, you estimate that more than 50% of the floor covering is damaged

-OR-

Damage to the floor covering exposes the underlying material.

Comments

Level 3: If this condition is a health and safety concern, you must record it manually in “Health and Safety: Hazards.”

Floors—Missing Flooring/Tiles (Common Areas)

Deficiency: You see that flooring—terrazo, hardwood, ceramic tile, or other flooring material—is missing.

Level of Deficiency:

Level 1: For a single floor, you see small holes in areas of the floor surface. You estimate that 5-10% of the floors are affected, and there are no safety problems.

Level 2: You estimate that 10-50% of the floors have small holes in areas of the floor surface, but there are no safety problems.

Level 3: You estimate that more than 50% of the floors are affected by Level 1 holes/damage.

-OR-

The condition causes a safety problem.

Comments

Level 3: If you have just one concern that safety is compromised, classify the floor system as a Level 3 deficiency.

Floors—Peeling/Needs Paint (Common Areas)

Deficiency: For floors that are painted, you see paint that is peeling, cracking, flaking, or otherwise deteriorated.

Level of Deficiency:

Level 1: The area affected is more than 1 square foot, but less than 4 square feet.

Level 2: The area affected is more than 4 square feet.

Level 3: N/A

Floors—Rot/Deteriorated Subfloor (Common Areas)

Deficiency: The subfloor has decayed or is decaying.

Level of Deficiency:

Level 1: N/A

Level 2: You see small areas of rot—1-4 square feet.

Level 3: You see large areas of rot—more than 4 square feet—and applying weight causes noticeable deflection.

Comments

Level 3: If you have any doubt about the severity of this condition, request an inspection by a structural engineer.

Floors—Water Stains/Water Damage/Mold/Mildew (Common Areas)

Deficiency: You see evidence of water infiltration, mold, or mildew that may have been caused by saturation or surface failure.

Level of Deficiency:

Level 1: N/A

Level 2: You see evidence of water stain, mold, or mildew—such as a darkened area—over a small area of floor (1-4 square feet). You may or may not see water. You estimates that less than 10% of the floors are affected.

Level 3: You estimate that a large portion of one of more floors—more than 4 square feet—has been substantially saturated or damaged by water, mold, or mildew. You see cracks, mold, and flaking, and the floor surface may have failed.

Comments

Level 3: If this condition is a health and safety concern, you must record it manually as “Health and Safety: Air Quality.”

HVAC (Common Areas)

System to provide heating, cooling and ventilation to the unit.

This does not include building heating or cooling system deficiencies such as boilers, chillers, circulating pumps, distribution lines, fuel supply, etc., OR occupant owned or supplied heating sources.

Convection/Radiant Heat System Covers Missing/Damaged

General Rust/Corrosion

Inoperable

Misaligned Chimney/Ventilation System

Noisy/Vibrating/Leaking

HVAC—Convection/Radiant Heat System Covers Missing/Damaged (Common Areas)

Deficiency: A cover on the convection/radiant heat system is missing or damaged, which could cause a burn or related injury.

Level of Deficiency:

Level 1: N/A

Level 2: N/A

Level 3: At least one cover is missing or substantially damaged, allowing contact with heating/surface elements or associated fans.

Comments

Level 3: When the system is operational during an inspection and you see a Level 3 deficiency—a real-time hazard exists—you must record it manually in “Health and Safety: Hazards.”

HVAC—General Rust/Corrosion (Common Areas)

Deficiency: The equipment or associated piping/ducting shows evidence of flaking, oxidation, discoloration, pitting or crevices.

Level of Deficiency:

Level 1: You see superficial surface rust.

Level 2: You see significant formations of metal oxides, flaking, or discoloration—or a pit or crevice.

Level 3: Because of this condition, the equipment or piping do not function.

HVAC—Inoperable (Common Areas)

Deficiency: The heating, cooling, or ventilation system does not function.

Note:

1. If the HVAC system is not functioning because it is not the right season, do not record this as a deficiency.

2. Statement may be validated by resident survey process.

Level of Deficiency:

Level 1: N/A

Level 2: N/A

Level 3: The HVAC does not function; it does not provide the heating or cooling it should. The system does not respond when the controls are engaged.

Comments

Level 3: If this condition is a health and safety concern, you must record it manually in “Health and Safety: Hazards”

HVAC—Misaligned Chimney/Ventilation System (Common Areas)

Deficiency: The exhaust system on a gas-fired or oil-fired unit is misaligned.

Level of Deficiency:

Level 1: N/A

Level 2: N/A

Level 3: You see any misalignment that may cause improper or dangerous venting of gases.

HVAC—Noisy/Vibrating/Leaking (Common Areas)

Deficiency: The HVAC distribution components, including fans, are the source of abnormal noise, unusual vibrations, or leaks.

Level of Deficiency:

Level 1: The HVAC system shows signs of abnormal vibrations, other noise, or leaks when engaged. The system still provides enough heating or cooling to maintain a minimum temperature range in the major living areas.

Level 2: N/A

Level 3: N/A

Stairs/Hand Railings Damaged (Common Areas)

Series of 4 or more steps or flights of steps joined by landings connecting levels of a common area. Includes supports, frame, treads, handrails.

This inspectable item can have the following deficiencies:

Broken/Missing Hand Railing

Broken/Damaged/Missing Steps

Stairs—Broken/Missing Hand Railing (Common Areas)

Deficiency: The hand-rail is damaged or missing.

Level of Deficiency:

Level 1: N/A

Level 2: N/A

Level 3: The hand-rail for four or more stairs is either missing, damaged, loose, or otherwise unusable.

Stairs—Broken/Damaged/Missing Steps (Common Areas)

Deficiency: The horizontal tread or stair surface is damaged or missing.

Level of Deficiency:

Level 1: N/A

Level 2: N/A

Level 3: A step is broken or missing.

Walls (Common Areas)

The enclosure of the unit and rooms. Materials for construction include concrete, masonry block, brick, wood, glass block, plaster, sheet-rock. Surface finish materials include paint, wall-coverings.

This inspectable item can have the following deficiencies:

Bulging/Buckling

Damaged/Deteriorated Trim

Damaged

Peeling/Needs Paint

Water Stains/Water Damage/Mold/Mildew

Walls—Bulging/Buckling (Common Areas)

Deficiency: A wall is bowed, deflected, sagging, or is no longer aligned horizontally.

Level of Deficiency:

Level 1: N/A

Level 2: N/A

Level 3: You see bulging, buckling, sagging, or a lack of horizontal alignment.

Comments

Level 3: If you have any doubt about the severity of the condition, request an inspection by a structural engineer.

Walls—Damaged/Deteriorated Trim (Common Areas)

Deficiency: Cove molding, chair rail, base molding, or other decorative trim is damaged or has decayed.

Note: Before the inspection starts, you should be given a list of 504/FH/ADA buildings/units. For the buildings/units on this list, do not record superficial surface/paint damage caused by wheelchairs, walkers, or medical devices as a deficiency.

Level of Deficiency:

Level 1: You see small areas of deterioration in the trim surfaces, and you estimate that 5-10% of the wall area is affected.

Level 2: You see large areas of deterioration in the trim surfaces, and you estimate that 10-50% of the wall area is affected.

Level 3: You see significant areas of deterioration in the wall surfaces, and you estimate that more than 50% of the wall area is affected.

Walls—Damaged (Common Areas)

Deficiency: You see punctures in the wall surface that may or may not penetrate completely. Panels or tiles may be missing or damaged.

Note: This does not include small holes from hanging pictures, ets.

Level of Deficiency:

Level 1: In a wall, you find a hole, missing tile or panel, or other damage that is between 1 inch and 8½ inches by 11 inches. The hole does not penetrate the adjoining room; you cannot see through it.

Level 2: In a wall, you find a hole, missing tile or panel, or other damage that is larger than a sheet of paper—8½ inches by 11 inches.

-OR-

You find a crack greater than ⅛ inch wide and at least 11 inches long.

Level 3: You find a hole of any size that penetrates an adjoining room; you can see through the hole.

-OR-

Two or more walls have Level 2 holes.

Walls—Peeling/Needs Paint (Common Areas)

Deficiency: Paint is peeing, cracking, flaking, or otherwise deteriorated.

Note: Before the inspection starts, you should be given a list of 504/FH/ADA buildings/units. For the buildings/items on this list, do not record as a deficiencies any superficial surface/paint damage caused by wheelchairs, walers, or medical devices.

Level of Deficiency:

Level 1: The affected area affected is 1-4 square feet on 2 or more walls.

Level 2: The affected area is more than 4 square feet on any wall or walls.

Level 3: N/A

Walls—Water Stains/Water Damage/Mold/Mildew (Common Areas)

Deficiency: Walls are not watertight. You see evidence of water infiltration, mold, or mildew—or damage caused by saturation or surface failure.

Level of Deficiency:

Level 1: You see evidence of a leak, mold, or mildew—such as a darkened area—over a small area (more than 1 square foot but less than 4 square feet). You may or may not see water.

Level 2: You see evidence of a leak, mold, or mildew—such as a darkened area—over a large area (more than 4 square feet). You probably see water.

Level 3: On one or more walls, you estimate that a large portion—50% of the surface—has been substantially saturated or damaged by water, mold, or mildew. You see cracks, moist areas, mold, or flaking. The wall surface may have failed.

-OR-

In any one unit, you estimate that more than 50% of the walls shows Level 1 damage from stains, mold, or mildew.

Comments

Level 3: If the condition is a health and safety concern, you must record it manually in “Health and Safety: Hazards.”

Windows (Common Areas)

Window systems provide light, security, and exclusion of exterior noise, glare, dust, heat, and cold. Frame materials include wood, aluminum, and vinyl.

This inspectable item can have the following deficiencies:

Cracked/Broken/Missing Panes

Damaged Window Sill

Deteriorated/Missing Caulking/Seals

Inoperable/Not Lockable

Peeling/Needs Paint

Security Bars Prevent Egress

Windows—Cracked/Broken/Missing Panes (Common Areas)

Deficiency: A glass pane is cracked, broken, or missing from the window sash.

Level of Deficiency:

Level 1: You see a cracked window pane.

Level 2: N/A

Level 3: You see that a glass pane is broken or missing from the window sash.

Windows—Damaged Window Sill (Common Areas)

Deficiency: The sill—the horizontal part of the window that bears the upright portion of the frame—is damaged.

Note: When looking for damage to window sills, do not include scratches and cosmetic deficiencies.

Level of Deficiency:

Level 1: A sill is damaged, but still there. The inside of the surrounding wall is not exposed, and you see no impact on the operation or functioning of the window or on its weather tightness.

Level 2: A sill is missing or damaged enough to expose the inside of the surrounding walls and compromise its weather tightness.

Level 3: N/A

Windows—Inoperable/Not Locable (Common Areas)

Deficiency: A window cannot be opened or closed because of damage to the frame, faulty hardware, or another cause.

Note:

1. If a window is not designed to lock, do not record this as a deficiency.

2. Windows that are accessible from the outside—a ground level window, for example—must be lockable.

Level of Deficiency:

Level 1: A window is not functioning, but can be secured. Other windows in the immediate area are functioning.

Level 2: N/A

Level 3: A window is not functioning, but cannot be secured. In the immediate area, there are no other windows that are functioning properly.

Windows—Missing/Deteriorated Caulking/Seals (Common Areas)

Deficiency: The caulking or seals that resists weather is missing or deteriorated.

Note:

1. This includes Thermopane and insulated windows that have failed.

2. Caulk and seals are considered to be deteriorated when two or more seals for any window have lost their elasticity. (If the seals crumble and flake when touched, they have lost their elasticity.)

Level of Deficiency:

Level 1: N/A

Level 2: Most of the window shows missing or deteriorated caulk, but there is no evidence of damage to the window or surrounding structure.

Level 3: There are missing or deteriorated caulk or seals—with evidence of leaks or damage to the window or surrounding structure.

Windows—Peeling/Needs Paint (Common Areas)

Deficiency: Paint covering the window assembly or trim is cracking, flaking, or otherwise failing.

Level of Deficiency:

Level 1: You see peeling paint or a window that needs paint.

Level 2: N/A

Level 3: N/A

Windows—Security Bars Prevent Egress (Common Areas)

Deficiency: Exiting by window is severely limited or impossible because security bars are damaged or improperly constructed or installed.

Note: This does not include windows that were not designed for exiting.

Level of Deficiency:

Level 1: N/A

Level 2: N/A

Level 3: Security bars are not functioning as they should, limiting the ability to exit through the window and posing safety risks.

Lighting—Missing/Damaged/Inoperable Fixture (Common Areas)

Deficiency: Lighting fixture is damaged, not functional, or missing.

Note: To conserve energy during daytime or in low-use areas, many facilities use alternate lights that are triggered by either a sensor or a timer. If you see these kinds of lights, ask the accompanying authority to verify that these conservation systems are in place.

Level of Deficiency:

Level 1: N/A

Level 2: 20%-50% of the permanent lighting fixtures are missing or damaged so they do not function. This results in inadequate lighting in the common area(s).

Level 3: More than 50% of the permanent lighting fixtures are missing or damaged so they do not function. This results in inadequate lighting in the common area(s).

Outlets/Switches/Cover Plates—Missing/Broken (Common Areas)

Deficiency:

—The flush plate that covers the opening around a switch or outlet is damaged or missing.

-OR-

—A switch or outlet is missing.

Level of Deficiency:

Level 1: An outlet or switch has a broken cover plate over a junction box, but it does not result in exposed wiring.

Level 2: N/A

Level 3: An outlet or switch is missing.

-OR-

A cover plate is missing or broken, resulting in exposed wiring.

Smoke Detector—Missing/Inoperable (Common Areas)

Deficiency:

—A smoke detector will not activate.

-OR-

—A hardwired smoke detector is missing.

Note:

1. If a smoke detector is there, it must function as it should.

2. “Missing” means that evidence suggests that unauthorized personnel have removed a hardwired smoke detector that should be there.

3. If 2 or more smoke detectors are on the same level in visible proximity, at least one of the smoke detectors must function as it should.

Level of Deficiency:

Level 1: N/A

Level 2: N/A

Level 3: A single smoke detector is missing or does not function as it should.

Pedestrian/Wheelchair Ramp (Common Areas)

Deficiency: A pedestrian walkway or wheelchair ramp is damaged or does not function as it should.

Level of Deficiency:

Level 1: N/A

Level 2: A walkway or ramp shows signs of deterioration and requires repair, but it can be used by people on foot, in wheelchairs, or using walkers.

Level 3: A walkway or ramp is damaged and cannot be used by people on foot, in wheelchairs, or using walkers.

Mailboxes—Missing/Damaged (Common Areas)

Deficiency: The U.S. Postal Service resident/unit mailbox is either missing or so damaged that it does not function properly.

Note: Do not inspect commercial deposit boxes—FedEx, UPS, etc.—or U.S. Postal Service “blue boxes”.

Level of Deficiency:

Level 1: N/A

Level 2: N/A

Level 3: The U.S. Postal Service resident/unit mailbox cannot be locked.

-OR-

The U.S. Postal Service resident/unit mailbox is missing.

Graffiti (Common Areas)

Deficiency: You see crude inscriptions or drawings scratched, painted, or sprayed on a building surface, retaining wall.

Note: There is a difference between art forms and graffiti. Do not consider full wall murals and other art forms as graffiti.

Level of Deficiency:

Level 1: You see graffiti in one place.

Level 2: You see graffiti in 2-5 places.

Level 3: You see graffiti in 6 or more places.

Countertops—Missing/Damaged (Common Areas)

Deficiency: A flat work surface in a kitchen often integral to lower cabinet space is missing or deteriorated.

Level of Deficiency:

Level 1: N/A

Level 2: 20% or more of the countertop working surface is missing, deteriorated, or damaged below the laminate—not a sanitary surface to prepare food.

Level 3: N/A

Cabinets—Missing/Damaged (Common Areas)

Deficiency: Cabinets are missing or the laminate is separating. This includes cases, boxes, or pieces of furniture with drawers, shelves, or doors—primarily used for storage—mounted on walls or floors.

Level of Deficiency:

Level 1: N/A

Level 2: You see that 10-50% of the cabinets, doors, or shelves are missing or the laminate is separating.

Level 3: You see that more than 50% of the cabinets, doors, or shelves are missing or the laminate is separating.

Dishwasher/Garbage Disposal—Inoperable (Common Areas)

Deficiency: A dishwasher or garbage disposal, if provided, does not function as it should.

Level of Deficiency:

Level 1: N/A

Level 2: The dishwasher or garbage disposal does not function as it should.

Level 3: N/A

Range Hood/Exhaust Fans—Excessive Grease/Inoperable (Common Areas)

Deficiency: The apparatus that draws out cooking exhaust does not function as it should.

Level of Deficiency:

Level 1: An accumulation of dirt threatens the free passage of air.

Level 2: N/A

Level 3: The exhaust fan does not function.

-OR-

You estimate that the flue may be completely blocked.

GFI—Inoperable (Common Areas)

Deficiency: The GFI does not function.

Note: To determine whether the GFI is functioning, you must press the self-test button in the GFI unit.

Level of Deficiency:

Level 1: N/A

Level 2: N/A

Level 3: The GFI does not function.

Comments

Level 3: If this condition is a health and safety concern, you must record it as “Health and Safety: Electrical Hazards.”

Fencing—Damaged/Not Intact (Common Areas)

Deficiency: You see that fencing around the swimming pool is damaged.

Level of Deficiency:

Level 1: N/A

Level 2: N/A

Level 3: You see any damage that could compromise the integrity of the fence.

Pool—Not Operational (Common Areas)

Deficiency: The pool was not in operation during the inspection.

Note: If the pool is open for the season, it should be operational. If the pool is closed for the season, do not record this is a deficiency.

Level of Deficiency:

Level 1: N/A

Level 2: N/A

Level 3: The pool is not operational.

-OR-

You see unsafe conditions at the pool/pool area that could cause an injury.

Lavatory Sink—Damaged/Missing (Common Areas)

Deficiency: A sink, faucet, or accessories are missing, damaged, or not functioning.

Note: If you see that a stopper is missing from a common area, do not record this as a deficiency.

Level of Deficiency:

Level 1: You see extensive discoloration or cracks in over 50% of the basin, but the sink can be used.

Level 2: N/A

Level 3: The sink or associated hardware have failed or are missing. The sink cannot be used.

Plumbing—Clogged Drains (Common Areas)

Deficiency: Water does not drain adequately from the shower, sink, tub, or basin.

Level of Deficiency:

Level 1: Water does not drain freely, but the fixture can be used.

Level 2: N/A

Level 3: The drain is completely clogged or has suffered extensive deterioration. The fixture cannot be used.

Plumbing—Leaking Faucet/Pipes (Common Areas)

Deficiency: You see that the sink faucet or piping is leaking.

Level of Deficiency:

Level 1: You see a leak or drip that is contained by the basin and pipes, and the faucet can be used.

Level 2: N/A

Level 3: You see a steady leak that is adversely affecting the surrounding area.

-OR-

The faucet/pipe cannot be used.

Range Hood/Exhaust Fans—Excessive Grease/Inoperable (Common Areas)

Deficiency: The apparatus that draws out cooking exhaust does not function as it should.

Level of Deficiency:

Level 1: An accumulation of dirt threatens the free passage of air.

Level 2: N/A

Level 3: The exhaust fan does not function.

-OR-

You estimate that the flue may be completely blocked.

Range/Stove—Missing/Damaged/Inoperable (Common Areas)

Deficiency: The unit is missing or damaged.

Level of Deficiency:

Level 1: The operation of doors or drawers is impeded, but the stove is functioning. On gas ranges, flames are not distributed equally. The pilot light is out on one or more burners.

Level 2: One burner is not functioning.

Level 3: The unit is missing.

-OR-

2 or more burners are not functioning.

-OR-

The oven is not functioning.

Comments

Level 3: If this condition is a health and safety concern, you must record it manually as “Health and Safety: Hazards.”

Refrigerator—Damaged/Inoperable (Common Areas)

Deficiency: The refrigerator is missing or does not cool adequately to store food safety.

Level of Deficiency:

Level 1: The refrigerator has an excessive accumulation of ice.

-OR-

The seals around the doors are deteriorated.

Level 2: N/A

Level 3: The refrigerator is missing.

-OR-

The refrigerator does not cool adequately for the safe storage of food.

Sink—Damaged/Missing (Common Areas)

Deficiency: A sink, faucet, or accessories are missing, damaged, or not functioning.

Note: If a stopper is missing, do not record it as a deficiency.

Level of Deficiency:

Level 1: You see extensive discoloration or cracks in 50% or more of the basin, but the sink and hardware can still be used to prepare food.

Level 2: N/A

Level 3: The sink or hardware is either missing or not functioning.

Dryer Vent—Missing/Damaged/Inoperable (Common Areas)

Deficiency: There is no adequate way to vent heat and lint to the outside.

Level of Deficiency:

Level 1: N/A

Level 2: N/A

Level 3: The dryer vent is missing or you see that it is not functioning because it is blocked. Dryer exhaust is not effectively vented to the outside.

Baluster/Side Railings—Damaged (Common Areas)

Deficiency: The baluster or side railing on the exterior improvement is loose, damaged, or not functioning—limiting the safe use of this area.

Level of Deficiency:

Level 1: N/A

Level 2: N/A

Level 3: The baluster or side rails enclosing the areas are loose, damaged, or missing, limiting the safe use of this area.

Restroom Cabinet—Damaged/Missing (Common Areas)

Deficiency: You see damaged or missing cabinets, vanity tops, drawers, shelves, doors, medicine cabinets, or vanities.

Level of Deficiency:

Level 1: You see damaged or missing shelves, vanity tops, drawers, or doors that are not functioning as they should for storage or their intended purpose.

Level 2: N/A

Level 3: N/A

Shower/Tub—Damaged/Missing (Common Areas)

Deficiency: The shower, tub, or components are damaged or missing.

Note: A missing stopper in a common area is not a deficiency.

Level of Deficiency:

Level 1: N/A

Level 2: The shower or tub can be used, but you see cracks or extensive discoloration in more than 50% of the basin.

Level 3: The shower or tub cannot be used for any reason. The shower, tub, faucets, drains, or associated hardware is missing or has failed.

Ventilation/Exhaust System—Inoperable (Common Areas)

Deficiency: The apparatus used to exhaust air has failed.

Note: If there was never a bathroom fan, do not record this as a deficiency.

Level of Deficiency:

Level 1: N/A

Level 2: An exhaust fan is not functioning.

-OR-

A bathroom window cannot be opened.

Level 3: N/A

Water Closet/Toilet—Damaged/Clogged/Missing (Common Areas)

Deficiency: A water closet/toilet is damaged or missing.

Level of Deficiency:

Level 1: N/A

Level 2: Fixture elements—seat, flush handle, cover etc—are missing or damaged.

-OR-

The toilet are cracked, or the hinge is broken.

Level 3: The bowl is fractured or broken and cannot retain water.

-OR-

The water closet/toilet is missing.

-OR-

There is a hazardous condition.

-OR-

The water closet/toilet cannot be flushed, because of obstruction or another defect.

Chutes Damaged/Missing Components (Common Areas)

Deficiency: The structure that directs garbage into the appropriate storage container is missing or damaged. This includes the chute, chute door, and other components.

Note: Do not evaluate the door that leads to the trash room.

Level of Deficiency:

Level 1: N/A

Level 1: Garbage has backed up into chutes, because the collection structure is missing or broken. Compactors or components—chute, chute door, and other components—have failed.

Level 3: N/A

Unit Inspectable Items

Items to inspect for “Unit” are as follows:

• Bathroom

• All-for-Aid

• Ceiling

• Doors

• Electrical System

• Floors

• Hot Water Heater

• HVAC System

• Kitchen

• Laundry Area

• Lighting

• Outlets/Switches

• Patio/Porch/Balcony

• Smoke Detector

• Stairs

• Walls

• Windows

Bathroom (Unit)

A room equipped with a water closet or toilet, tub and/or shower, sink, cabinet(s) and/or closet.

This inspectable item can have the following deficiencies:

Bathroom Cabinets—Damaged/Missing

Lavatory Sink—Damaged/Missing

Plumbing—Clogged Drains

Plumbing—Leaking Faucet/Pipes

Shower/Tub—Damaged/Missing

Ventilation/Exhaust System—Inoperable

Water Closet/Toilet—Damaged/Clogged/Missing

Bathroom Cabinets—Damaged/Missing (Bathroom)

Deficiency: You see damaged or missing cabinets, vanity tops, shelves, doors, medicine cabinets, or vanities.

Level of Deficiency:

Level 1: You see damaged or missing shelves, vanity tops, drawers, or doors that are not functioning as they should for storage or their intended purpose.

Level 2: N/A

Level 3: N/A

Lavatory Sink—Damaged/Missing (Bathroom)

Deficiency: A basin (sink) is missing or shows signs of deterioration or distress.

Note: If you see the stopper near the shower/tub area, do not record it as a deficiency.

Level of Deficiency:

Level 1: The sink can be used, but you see either of these:

There are cracks or extensive discoloration in more than 50% of the basin.

-OR-

A stopper is missing.

Level 2: N/A

The sink cannot be used, because the sink or associated hardware is missing or has failed.

Plumbing—Clogged Drains (Bathroom)

Deficiency: Water does not drain adequately in the shower, or basin (sink).

Level of Deficiency:

Level 1: Water does not drain freely, but the fixtures can be used.

Level 2: N/A

Level 3: The fixtures are not usable, because the drain is completely clogged or shows extensive deterioration.

Pluming—Leaking Faucet/Pipes (Bathroom)

Deficiency: You see that a basin, shower, water closet, tub faucet, or associated pipes are leaking water.

Level of Deficiency:

Level 1: You see a leak or drip that is contained by the basin, and the faucet or pipe can be used.

Level 2: N/A

Level 3: You see a steady leak that is adversely affecting the area around it.

-OR-

The faucet or pipe cannot be used.

Shower/Tub—Damaged/Missing (Bathroom)

Deficiency: The shower, tub, or components are damaged or missing. This includes associated hardware—grab bars, shower doors, etc.

Note:

1. This does not include leaking faucets and pipes.

2. If you see the stopper near the shower/tub area, do not record it as a deficiency.

Level of Deficiency:

Level 1: A stopper is missing.

Level 2: The shower or tub can be used, but you see cracks or extensive discoloration in more than 50% of the basin.

Level 3: The shower or tub cannot be used for any reason. The shower, tub, faucets, drains, or associated hardware is missing or has failed.

Ventilation/Exhaust System—Inoperable (Bathroom)

Deficiency: The apparatus used to exhaust air has failed.

Note:

1. If a resident has blocked an exhaust fan but it can function properly, do not record this as a deficiency.

2. If a resident has disconnected a fan, consider it functional if it can be immediately reconnected for your inspection.

3. If there was never a bathroom fan, do not record this as a deficiency.

Level of Deficiency:

Level 1: N/A

Level 2: An exhaust fan is not functioning.

-OR-

A bathroom window cannot be opened.

Level 3: N/A

Water Closet/Toilet—Damaged/Clogged/Missing (Bathroom)

Deficiency: A water closet/toilet is damaged or missing.

Level of Deficiency:

Level 1: N/A

Level 2: Fixture elements—seat, flush handle, cover etc.—are missing or damaged.

-OR-

The toilet seat is cracked, or the hinge is broken.

Level 3: The bowl is fractured or broken and cannot retain water.

-OR-

The water closet/toilet is missing.

-OR-

There is a hazardous condition.

-OR-

The water closet/toilet cannot be flushed, because of obstruction or another defect.

Call-for-Aid (Unit)

System to summon help. May be visual, audible, or both. May be activated manually or automatically when pre-programmed conditions are met.

This inspectable item can have the following deficiency:

Inoperable.

Inoperable (Call-for-Aid)

Deficiency: The system does not function as it should.

Level of Deficiency:

Level 1: N/A

Level 2: N/A

Level 3: The system does not function as it should.

Ceiling (Unit)

The visible overhead structure lining the inside of a room or area.

This inspectable item can have the following deficiencies:

Bulging/Buckling

Holes/Missing Tiles/Panels/Cracks

Peeling/Needs Paint

Water Stains/Water Damage/Mold/Mildew

Bulging/Buckling (Ceiling)

Deficiency: The ceiling is bowed, deflected, sagging, or is no longer aligned horizontally.

Level of Deficiency:

Level 1: N/A

Level 2: N/A

Level 3: You see bulging, buckling, sagging, or a problem with alignment.

Comments

Level 3: If there is any doubt about the severity of the condition, request an inspection by a structural engineer.

Holes/Missing Tiles/Panels/Cracks (Ceiling)

Deficiency:

—The ceiling surface has punctures that may or may not penetrate completely.

-OR-

—Panels or tiles are missing or damaged.

Level of Deficiency:

Level 1: You see small hole that are no larger than a sheet of paper—8½ inches by 11 inches.

-OR-

No hole penetrates the area above.

-OR-

You see that no more than 3 tiles or panels are missing.

Level 2: You see a hole that is larger than a sheet of paper—8½ inches by 11 inches—but it does not penetrate the area above. (You cannot see through it).

-OR-

You see that more than 3 tiles or panels are missing.

-OR-

You see a crack more than ⅛ inch wide and 11 inches long.

Level 3: You see a hole that penetrates the area above; you can see through it

Comments

Level 3: If a hole is a health and safety concern, you must record it manually in “Health and Safety Hazards.”

Peeling/Needs Paint (Ceiling)

Deficiency:

—You see paint that is peeling, cracking, flaking, or otherwise deteriorated.

-OR-

—You see a surface that is not painted.

Level of Deficiency:

Level 1: The affected area is larger than 1 square foot, but smaller than 4 square feet.

Level 2: The affected area is larger than 4 square feet.

Level 3: N/A

Water Stains/Water Damage/Mold/Mildew (Ceiling)

Deficiency: You see evidence of water infiltration, mold, or mildew that may have been caused by saturation or surface failure.

Level of Deficiency:

Level 1: On one ceiling, you see evidence of a leak, mold, or mildew—such as a darkened area—over a small area (more than 1 square foot but less than 4 square feet). You estimate that less than 10% of the ceiling surface area is affected. You may or may not see water.

Level 2: On one ceiling, you see evidence of a leak mold or mildew—such as a darkened area—over a large area (more than 4 square feet). You may or may not see water.

-OR-

You estimate that 10-50% of the ceiling areas has Level 1 damage.

Level 3: On one ceiling, you estimate that a large portion—50% of its surface—has been substantially saturated or damaged by water, mold, or mildew. You see cracks, moist areas, mold, or mildew.

The ceiling surface may have failed.

-OR-

In any one unit, you estimate that more than 50% of the ceiling shows Level 1 damage from stains, mold, or mildew.

-OR-

Level 3: If the condition is a health and safety concerns, you must record it manually in “Health and Safety: Air Quality.”

Doors (Unit)

Means of access to the interior of a unit, room within the unit, or closet. Doors provide privacy and security, control passage, provide fire and weather resistance.

This inspectable item can have the following deficiencies:

Damaged Surface Holes/Paint/Rusting/Glass

Damaged Frames/Threshold/Lintels/Trim

Damaged Hardware/Locks

Damaged/Missing Screen/Storm/Security Door

Deteriorated/Missing Seals (Entry Only)

Missing Door

Damaged Surface—Holes/Paint/Rusting/Glass (Doors)

Deficiency: You see damage to the door surface that:

—may affect either the surface protection or the strength of the door

-OR-

—may compromise building security

This includes holes, peeling/cracking/no paint, broken glass, and significant rust.

Note: If the door is a bathroom door or entry door, this is a Level 3 deficiency.

Level of Deficiency:

Level 1: N/A

Level 2: One interior door—not a bathroom or entry door—has a hole or holes with a diameter ranging from ¼ inch to 1 inch.

Level 3: One door has a hole or holes larger than 1 inch in diameter, significant peeling/cracking/no paint, rust that affects the integrity of the door surface, or broken/missing glass.

-OR-

If a bathroom door or entry door has Level 2 damage.

Comments

Level 3: If the condition is a health and safety concern, you must record it manually in “Health and Safety: Hazards.”

Damaged Frames/Threshold/Lintels/Trim (Doors)

Deficiency: You see a frame, header, jamb, threshold, lintel, or trim that is warped, split, cracked, or broken.

Note: If you see damage to a door's hardware—locks, hinges, etc.—record this under “Doors-Damage Hardware/Locks”.

Level of Deficiency:

Level 1: N/A

Level 2: At least one door is not functioning or cannot be locked because of damage to the frame, threshold, lintel, or trim.

Level 3: At least one bathroom door or entry door is not functioning or cannot be locked because of damage to the frame, threshold, lintel, or trim.

Comments

Level 3: If the condition is a health and safety concern, you must record it manually as “Health and Safety: Hazards.”

Damaged Hardware/Locks (Doors)

Deficiency: The attachments to a door that provide hinging, hanging, opening, closing, surface protection, or security are damaged or missing. These include locks, panic hardware, overhead door tracks, springs and pulleys sliding door tracks and hangers, and door closures.

Note:

1. If a door is designed to have a lock, the lock should work. If a door is designed without locks, do not record it as a deficiency.

2. If a lock has been removed from an interior door, do not record this as a deficiency.

3. 504 units have had locks removed. Before you start the inspection, you should be given a list of units relative to 504/FH/ADA. Do not record these missing locks as deficiencies.

4. For public housing, if a lock on a bedroom door is missing or damaged, do not record it as a deficiency.

Level of Deficiency:

Level 1: A closet door does not function as it should because of damage to the door's hardware.

-OR-

A closet door that requires locking cannot be locked because of damage to the door's hardware.

Level 2: A door does not function as it should because of damage to the door's hardware.

-OR-

A door that requires locking cannot be locked because of damage to the door's hardware.

Level 3: A bathroom door or entry door does not function as it should because of damage to the door's hardware.

-OR-

A bathroom door or entry door that requires locking cannot be locked because of damage to the door's hardware.

Damaged/Missing Screen/Storm/Security Door (Doors)

Deficiency: You see damage to surfaces, including screens, glass, frames, hardware, and door surfaces.

Level of Deficiency:

Level 1: At least one screen door or storm door is damaged or is missing screens or glass—shown by an empty frame or frames.

Level 2: N/A

Level 3: A security door is not functioning or missing.

Comments

Level 3: “Missing” applies only if a security door that should be there is not there.

Deteriorated/Missing Seals (Entry Only) (Doors)

Deficiency: The seals and stripping around the entry door(s) to resist weather and fire are damaged or missing.

Note: This defect applies only to entry doors that were designed with seals. If a door shows evidence that a seal was never part of its design, do not record it as a deficiency.

Level of Deficiency:

Level 1: N/A

Level 2: N/A

Level 3: The seals are missing on one entry door, or they are so damaged that they do not function as they should.

Missing Door (Doors)

Deficiency: A door is missing.

Note:

1. If a bathroom or entry door is missing, record this as a Level 3 deficiency.

2. If a bedroom door has been removed to improve access for an elderly or handicapped resident, do not record this as a deficiency.

Level of Deficiency:

Level 1: A door is missing, but it is not a bathroom door or entry door.

Level 2: Two doors or up to 50% of the doors are missing, but they are not bathroom doors or entry doors, and the condition presents no hazard.

Level 3: A bathroom door or entry door is missing.

-OR-

You estimate that more than 50% of the unit doors—not including bathroom doors and entry doors—are missing.

Electrical System (Unit)

Portion of the unit that safely provides electrical power throughout the building. Includes equipment that provides control, protection, metering and service.

This inspectable item can have the following deficiency:

Blocked Access to Electric Panel

Burnt Breakers

Evidence of Leaks Corrosion

Frayed Wiring

GFI Inoperable

Missing Breakers/Fuses

Missing Covers

Blocked Access to Electrical Panel (Electrical System)

Deficiency: A fixed obstruction or item of sufficient size and weight can delay or prevent access to any panel board switch in an emergency.

Note: If you see an item that is easy to remove, like a picture, do not note this as a deficient.

Level of Deficiency:

Level 1: N/A

Level 2: N/A

Level 3: One or more fixed items of sufficient size and weight can impede access to the unit's electrical panel during an emergency.

Burnt Breakers (Electrical System)

Deficiency: Breakers have carbon on the plastic body, or the plastic body is melted and scarred.

Level of Deficiency:

Level 1: N/A

Level 2: N/A

Level 3: You see any carbon residue, melted breakers, or arcing scars.

Evidence of Leaks/Corrosion (Electric System)

Deficiency: You see liquid stains, rust marks, or other signs of corrosion on electrical enclosures or hardware.

Note: Do not consider surface rust a deficiency if it does not affect the condition of the electrical enclosure.

Level of Deficiency:

Level 1: N/A

Level 2: N/A

Level 3: Any corrosion that affects the condition of the components that carry current.

-OR-

Any stains or rust on the interior of electrical enclosures.

-OR-

Any evidence of water leaks in the enclosure or hardware.

Frayed Wiring (Electrical System)

Deficiency: You see nicks, abrasions, or fraying of the insulation that expose wires that conduct current.

Note: Do not consider this a deficiency for wires that are not intended to be insulated, such as grounding wires.

Level of Deficiency:

Level 1: N/A

Level 2: N/A

Level 3: You see any nicks, abrasions, or fraying of the insulation that expose any conducting wire.

Comments

Level 3: If the condition is a health and safety concern, you must record it manually as “Health and Safety: Electrical Hazards.”

GFI—Inoperable (Electrical System)

Deficiency: The GFI does not function.

Note: To determine whether the GFI is functioning, you must press the self-test button in the GFI unit.

Level of Deficiency:

Level 1: N/A

Level 2: N/A

Level 3: The GFI does not function.

Comments

Level 3: If this condition is a health and safety concern, you must record it as “Health and Safety: Electrical Hazards.”

Missing Breakers/Fuses (Electrical System)

Deficiency: In a panel board, main panel board, or other electrical box that contains circuit breakers/fuses, you see an open circuit breaker position that is not appropriately blanked-off.

Level of Deficiency:

Level 1: N/A

Level 2: N/A

Level 3: You see an open breaker port.

Missing Covers (Electrical System)

Deficiency: The cover is missing from any electrical device box, panel box, switch gear box, control panel, etc., with exposed electrical connections.

Level of Deficiency:

Level 1: N/A

Level 2: N/A

Level 3: A cover is missing, and you see exposed electrical connections.

Floors (Unit)

The visible horizontal surface system within a room or area underfoot; the horizontal division between two stories of a structure.

This inspectable item can have the following deficiencies:

Bulging/Buckling

Floor Covering Damage

Missing Flooring/Tiles

Peeling/Needs Paint

Rot/Deteriorated Subfloor

Water Stains/Water Damage/Mold/Mildew

Bulging/Buckling (Floors)

Deficiency: A floor is bowed, deflected, sagging, or is no longer aligned horizontally.

Level of Deficiency:

Level 1: N/A

Level 2: N/A

Level 3: You see bulging, buckling, sagging, or a lack of horizontal alignment.

Comments

Level 3: If you have any doubt about the severity of this condition, request an inspection by a structural engineer.

Floor Covering Damage (Floors)

Deficiency: You see damage to carpet tiles, wood, sheet vinyl, or other floor covering.

Level of Deficiency:

Level 1: You estimate that only 5-10% of the floor covering has stains, surface burns, shallow cuts, small holes, or tears in non-traffic areas; loose areas; or exposed seams. The covering is fully functional, and there is no safety hazard.

Level 2: You estimate that 10-50% of the floor covering has burn marks, cuts, tears, holes, or large sections of exposed seams that expose the underlying material. There is no safety hazard.

Level 3: You estimate that more than 50% of the floor covering has burn marks, cuts, tears, holes, or large sections of exposed seams that expose the underlying material.

Comments

Level 3: If this condition is a health and safety concern, you must record it manually in “Health and Safety: Hazards.”

Missing Flooring/Tiles (Floors)

Deficiency: VCT, sheet, vinyl, carpet, or other flooring material is missing.

Note: If you have a single concern about compromised safety, record this as a Level 3 deficiency.

Level of Deficiency:

Level 1: For a single floor, small areas of the floor surface are missing. You estimate that more than 5% but less than 10% of the floors are affected and that this does not cause a safety problem.

Level 2: You estimate that 10-50% of the floors have missing or broken flooring and that this does not cause a safety problem.

Level 3: You estimate that more than 50% of the floors are affected by missing or broken flooring

-OR-

Missing or broken flooring causes a single safety problem.

Comments

Level 3: If this condition is a health and safety concern, you must record it manually in “Health and Safety: Hazards.”

Peeling/Needs Paint (Floors)

Deficiency: For floors that are painted, you see paint that is peeling, cracking, flaking, or otherwise deteriorated.

Level of Deficiency:

Level 1: The area affected is more than 1 square foot, but less than 4 square feet.

Level 2: The area affected is more than 4 square feet.

Level 3: N/A

Rot/Deteriorated Subfloor (Floors)

Deficiency: The subfloor has decayed or is decaying.

Level of Deficiency:

Level 1: N/A

Level 2: You see small areas of rot or spongy flooring—more than 1 square foot, but less than 4 square feet.

Level 3: You see large areas of rot—more than 4 square feet—and applying weight causes noticeable deflection.

Comments

Level 3: If you have any doubt about the severity of this condition, request an inspection by a structural engineer.

Water Stains/Water Damage/Mold/Mildew (Floors)

Deficiency: You see evidence of water infiltration, mold, or mildew that may have been caused by saturation or surface failure.

Level of Deficiency:

Level 1: N/A

Level 2: You see evidence of a water stain, mold, or mildew—such as a darkened area—over a small area of floor (1-4 square feet). You may or may not see water.

Level 3: You estimate that a large portion of floor—more than 4 square feet—has been substantially saturated or damaged by water, mold, or mildew. You see cracks, mold, and flaking, and the floor surface may have failed.

Comments

Level 3: If this condition is a health and safety concern, you must record it manually as “Health and Safety: Air Quality.”

Hot Water Heater (Unit)

This inspectable item can have the following deficiencies:

Misaligned Chimney/Ventilation System

Inoperable Unit/Components

Leaking Valves/Tanks/Pipes

Pressure Relief Valve Missing

Rust/Corrosion

Misaligned Chimney/Ventilation System (Hot Water Heater)

Deficiency: The exhaust system on a gas-fired or oil-fired unit is misaligned.

Level of Deficiency:

Level 1: N/A

Level 2: N/A

Level 3: You see any misalignment that may cause improper or dangerous venting of gases.

Inoperable Unit/Components (Hot Water Heater)

Deficiency: Hot water supply is not available, because the system or system components have malfunctioned.

Level of Deficiency:

Level 1: N/A

Level 2: N/A

Level 3: After running, water from the hot water taps is not warmer than room temperature.

Leaking Valves/Tanks/Pipes (Hot Water Heater)

Deficiency: You see water leaking from any hot water system component, including valve flanges, stems, bodies, domestic hot water tank, or its piping.

Level of Deficiency:

Level 1: N/A

Level 2: N/A

Level 3: You see water leaking.

Comments

Level 3: If this condition is a health and safety concern, you must record it manually in “Health and Safety Hazards.”

Pressure Relief Valve Missing (Hot Water Heater)

Deficiency: The pressure relief valve on the unit water heating system is missing or does not extend to the floor.

Level of Deficiency:

Level 1: N/A

Level 2: N/A

Level 3: You see that the pressure relief valve on the unit water heating system is either missing or does not extend to the floor.

Rust/Corrosion (Hot Water Heater)

Deficiency: The equipment or associated piping/ducting shows evidence of flaking, oxidation, discoloration, pitting, or crevices.

Level of Deficiency:

Level 1: You see superficial surface rust.

Level 2: You see significant formations of metal oxides, flaking, or discoloration—or a pit or crevice.

Level 3: Because of this condition, the equipment or piping do not function.

HVAC System (Unit)

System to provide heating, cooling and ventilation to the unit.

This does not include building heating or cooling system deficiencies such as boilers, chillers, circulating pumps, distribution lines, fuel supply, etc., or occupant owned or supplied heating sources.

This inspectable item can have the following deficiencies:

Convection/Radiant Heat System Covers Missing/Damaged

General Rust/Corrosion

Inoperable

Misaligned Chimney/Ventilation System

Noisy/Vibrating/Leaking

Convection/Radiant Heat System Covers Missing/Damaged (HVAC)

Deficiency: A cover on the convection/radiant heat system is missing or damaged, which could cause a burn or related injury.

Level of Deficiency:

Level 1: N/A

Level 2: N/A

Level 3: At least one cover is missing or substantially damaged, allowing contact with heating/surface elements or associated fans.

Comments

Level 3: When the system is operational during an inspection and you see a Level 3 deficiency—a real-time hazard exits—you must record it manually in “Health and Safety: Hazards.”

General Rust/Corrosion (HVAC)

Deficiency: You see a component of the system with deterioration from oxidation or corrosion of system parts.

Level of Deficiency:

Level 1: You see deterioration from rust and corrosion on the HVAC units in the dwelling unit. The system still provides enough heating or cooling.

Level 2: N/A

Level 3: N/A

Inoperable (HVAC)

Deficiency: The heating, cooling, or ventilation system does not function.

Note: If the HVAC system does not operate because of seasonal conditions, do not record this as a deficiency.

Level of Deficiency:

Level 1: N/A

Level 2: N/A

Level 3: The HVAC does not function; it does not provide the heating or cooling it should. The system does not respond when the controls are engaged.

Comments

Level 3: If this condition is a health and safety concern, you must record it manually in “Health and Safety: Hazards.”

Misaligned Chimney/Ventilation System (HVAC)

Deficiency: The exhaust system on a gas-fired unit is misaligned.

Level of Deficiency:

Level 1: N/A

Level 2: N/A

Level 3: You see any misalignment that may cause improper or dangerous venting of gases.

Noisy/Vibrating/Leaking (HVAC)

Deficiency: The HVAC distribution components, including fans, are the source of abnormal noise, unusual vibrations, or leaks.

Level of Deficiency:

Level 1: The HVAC system shows signs of abnormal vibrations, other noise, or leaks when engaged. The system still provides enough heating or cooling to maintain a minimum temperature range in the major living areas.

Level 2: N/A

Level 3: N/A

Kitchen (Unit)

A place where food is cooked or prepared. The facilities and equipment used in preparing and serving food. This inspectable item can have the following deficiencies:

Cabinets—Missing/Damaged

Countertops—Missing/Damaged

Dishwasher/Garbage Disposal—Inoperable

Plumbing—Clogged Drains

Plumbing—Leaking Faucets/Pipes

Range Hoods/Exhaust Fans—Excessive Grease/Inoperable

Range/Stove—Missing/Damaged/Inoperable

Refrigerator—Missing/Damaged/Inoperable

Sink—Missing/Damaged

Cabinets—Missing/Damaged (Kitchen)

Deficiency: Cabinets are missing or the laminate is separating. This includes cases, boxes, or pieces of furniture with drawers, shelves, or doors—primarily used for storage—mounted on walls or floors.

Level of Deficiency:

Level 1: N/A

Level 2: You see that 10-50% of the cabinets, doors, or shelves are missing or the laminate is separating.

Level 3: You see that more than 50% of the cabinets, doors, or shelves are missing or the laminate is separating.

Countertops—Missing/Damaged (Kitchen)

Deficiency: A flat work surface in a kitchen often integral to lower cabinet space is missing or deteriorated.

Level of Deficiency:

Level 1: N/A

Level 2: 20% or more of the countertop working surface is missing, deteriorated, or damaged below the laminate—not a sanitary surface to prepare food.

Level 3: N/A

Dishwasher/Garbage Disposal—Inoperable (Kitchen)

Deficiency: A dishwasher or garbage disposal, if provided, does not function as it should.

Level of Deficiency:

Level 1: N/A

Level 2: The dishwasher or garbage disposal does not function as it should.

Level 3: N/A

Plumbing—Clogged Drains (Kitchen)

Deficiency: The water does not drain adequately.

Level of Deficiency:

Level 1: The basin does not drain freely.

Level 2: N/A

Level 3: The drain is completely clogged or has suffered extensive deterioration.

Plumbing-Leaking Faucets/Pipes (Kitchen)

Deficiency: You see that a basin faucet or drain connections leak.

Level of Deficiency:

Level 1: You see a leak or drip that is contained by the basin or pipes, and the faucet is functioning as it should.

Level 2: N/A

Level 3: You see a steady leak that is having an adverse affect on the surrounding area, and the faucet or pipe is not usable.

Range Hood/Exhaust Fans—Excessive Grease/Inoperable (Kitchen)

Deficiency: The apparatus that draws out cooking exhaust does not function as it should.

Level of Deficiency:

Level 1: An accumulation of dirt threatens the free passage of air.

Level 2: N/A

Level 3: The exhaust fan does not function.

-OR-

You estimate that the flue may be completely blocked

Range/Stove—Missing/Damaged/Inoperable (Kitchen)

Deficiency: The unit is missing or damaged.

Note: Before the inspection starts, you should be given a list of units under 504/FH/ADA. Do not record these disconnected or partially disconnected ranges/stoves as a deficiency.

Level of Deficiency:

Level 1: The operation of doors or drawers is impeded, but the stove is functioning. On gas ranges, flames are not distributed equally. The pilot light is out on one or more burners.

Level 2: One burner is not functioning.

Level 3: The unit is missing.

-OR-

2 or more burners are not functioning.

-OR-

The oven is not functioning.

Comments

Level 3: If this condition is a health and safety concern, you must record it manually as “Health and Safety: Hazrds.”

Refrigerator—Missing/Damaged/Inoperable (Kitchen)

Deficiency: The refrigerator is missing or does not cool adequately for the safe storage of food.

Level of Deficiency:

Level 1: The refrigerator has an excessive accumulation of ice.

-OR-

The seals around the doors are deteriorated.

Level 2: N/A

Level 3: The refrigerator is missing.

-OR-

The refrigerator does not cool adequately for the safe storage of food.

Sink—Missing/Damaged (Kitchen)

Deficiency: A sink, faucet, or accessories are missing, damaged, or not functioning.

Note: If a stopper is missing, do not record it as a deficiency.

Level of Deficiency:

Level 1: You see extensive discoloration or cracks in 50% or more of the basin, but the sink and hardware can still be used to prepare food.

Level 2: N/A

Level 3: The sink of hardware is either missing or not functioning.

Laundry Area (Room) (Unit)

Place where soiled clothes and linens are washed and/or dried.

This inspectable item can have the following deficiency:

Dryer Vent Missing/Damaged/Inoperable

Dryer Vent Missing/Damaged/Inoperable (Laundry Area (Room))

Deficiency: Inadequate means is available to vent accumulated heat/lint to the outside.

Level of deficiency:

Level 1: N/A

Level 2: N/A

Level 3: Dryer vent is missing or is visually determined to be inoperable (blocked). Dryer exhaust is not effectively vented to the outside.

Lighting (Unit)

System to provide illumination to a room or area. Includes fixtures, lamps, and supporting accessories.

This inspectable item can have the following deficiency:

Missing/Inoperable Fixture

Missing/Inoperable Fixture (Lighting)

Deficiency: A lighting fixture is missing or does not function as it should. The malfunction may be in the total system or components—excluding light bulbs.

Level of Deficiency:

Level 1: In one room in a unit, a permanent lighting fixture is missing or not functioning, and no other switched light source is functioning in the room.

Level 2: In two rooms, a permanent lighting fixture is missing or not functioning, and no other switched light source is functioning in the rooms.

Level 3: In more than two rooms, a permanent light fixture is missing or not functioning, and no other switched light sources are functioning in the rooms.

Outlets/Switches (Unit)

The receptacle connected to a power supply or method to control the flow of electricity. Includes two & three prong outlets, ground fault interrupters, pull cords, two & three pole switches, and dimmer switches.

This inspectable item can have the following deficiencies:

Missing

Missing/Broken Cover Plates

Missing (Outlets/Switches)

Deficiency: An outlet, switch, or both are missing.

Note: This does not apply to empty junction boxes that were not intended to contain an outlet or switch.

Level or Deficiency:

Level 1: N/A

Level 2: N/A

Level 3: An outlet, switch, or both are missing.

Comments

Level 3: If this condition is a health and safety concern, you must record it manually as a “Health and Safety: Electrical Hazards.”

Missing/Broken Cover Plates (Outlets/Switches)

Deficiency: The flush plate used to cover the opening around a switch or outlet is damaged or missing.

Level of Deficiency:

Level 1: An outlet or switch has a broken cover plate over a junction box, but this does not cause wires to be exposed.

Level 2: N/A

Level 3: A cover plate is missing, which causes wires to be exposed.

Patio/Porch/Balcony (Unit)

Adjoining patio, porch, or balcony.

This inspectable item can have the following deficiency:

Baluster/Side Railings Damaged

Baluster/Side Railings Damaged (Patio/Porch/Balcony)

Deficiency: A baluster or side rails on the porch/patio/balcony is loose, damaged, or does not function, which limits the safe use of this area.

Level of Deficiency:

Level 1: N/A

Level 2: N/A

Level 3: The baluster or side rail enclosing this area are loose, damaged, or missing, limiting the safe use of this area.

Smoke Detector (Unit)

Sensor to detect the presence of smoke and activate an alarm. May be battery operated or hard-wired to electrical system. May provide visual signal, audible signal or both.

This inspectable item can have the following deficiency:

Missing/Inoperable

Missing/Inoperable (Smoke Detector)

Note: 1. There must be at least one smoke detector on each level.

2. If 2 or more smoke detectors are on the same level in visible proximity, at least one of the smoke detectors must function as it should.

Level of Deficiency:

Level 1: N/A

Level 2: N/A

Level 3: A single smoke detector is missing or does not function as it should.

Stairs (Unit)

Series of 4 or more steps or flights of steps joined by landings connecting levels of a unit. Includes supports, frame, treads, handrails.

This inspectable item can have the following deficiencies:

Broken/Missing Hand Railing

Broken/Damaged/Missing Steps

Broken/Missing Hand Railing (Stairs)

Deficiency: The hand-rail is damaged or missing.

Level of Deficiency:

Level 1: N/A

Level 2: N/A

Level 3: The hand-rail for four or more stairs is either missing, damaged, loose, or otherwise unusable.

Broken/Damaged/Missing Steps (Stairs)

Deficiency: The horizontal tread or stair surface is damaged or missing.

Level of Deficiency:

Level 1: N/A

Level 2: N/A

Level 3: A step is broken or missing.

Walls (Unit)

The enclosure of the unit and rooms. Materials for construction include concrete, masonry block, brick, wood, glass block, plaster, sheet-rock. Surface finish materials include paint, wall-coverings.

This inspectable item can have the following deficiencies:

Bulging/Buckling

Damaged

Damaged/Deteriorated Trim

Peeling/Needs Paint

Water Stains/Water Damage/Mold/Mildew

Bulging/Buckling (Walls)

Deficiency: A wall is bowed, deflected, sagged, or is no longer vertically aligned.

Level of Deficiency:

Level 1: N/A

Level 2: N/A

Level 3: You see bulging, buckling, sagging, or that the wall is not longer vertically aligned.

Comments

Level 3: If you have any doubt about the severity of the condition, request an inspection by a structural engineer.

Damaged (Walls)

Deficiency: You see punctures in the wall surface that may or may not penetrate completely. Panels or tiles may be missing or damaged.

Note: This does not include small holes created by hanging pictures, etc.

Level of Deficiency:

Level 1: In a wall, you find a hole, missing tile or panel, or other damaged that is between 1 inch and 8½ inches by 11 inches. The hole does not penetrate the adjoining room; you cannot see through it.

Level 2: In a wall, you find a hole, missing tile or panel, or other damage that is larger than a sheet of paper—8½ inches by 11 inches.

-OR-

You find a crack greater than L inches wide and at least 11 inches long.

Level 3: You find a hold of any size that penetrates an adjoining room; you can see through the hole.

-OR-

Two or more walls than Level 2 holes.

Damaged/Deteriorated Trim (Walls)

Deficiency: Cove molding, chair rail, base molding, or other decorative trim or damaged or has decayed.

Note: Before the inspection starts, you should be given a list of 504/FH/ADA building/units. For the buildings/units on this list, do not record superficial surface/paint damage caused by wheelchairs, walkers, or medical devices as a deficiency.

Level of Deficiency:

Level 1: You see small areas of deterioration in the trim surfaces, and you estimate that 5-10% of the wall area is affected.

Level 2: You see large areas of deterioration in the trim surfaces, and you estimate that 10-50% of the wall area is affected.

Level 3: You see significant areas of deterioration in the wall surfaces, and you estimate that more than 50% of the wall area is affected.

Peeling/Needs Paint (Walls)

Deficiency:

—Paint is peeling, cracking, flaking, or otherwise deteriorated.

-OR-

—A surface is not painted.

Note: Before the inspection starts, you should be given a list of 504/FH/ADA buildings/units. For the buildings/items on this list, do not record as deficiencies any superficial surface/paint damage caused by wheelchairs, walkers, or medical devices.

Level of Deficiency:

Level 1: The affected area affected is more than 1 square foot but less than 4 square feet.

Level 2: The affected ares is more than 4 square feet.

Level 3: N/A

Water Stains/Water Damage/Mold Mildew (Walls)

Deficiency: Walls are not watertight. You see evidence of water infiltration, mold, or mildew—or damage caused by saturation or surface failure.

Level of Deficiency:

Level 1: You see evidence of a leak, mold, or mildew—such as a darkened area—over a small area (more than 1 square foot but less than 4 square feet). You may or may not see water.

Level 2: You see evidence of a leak, mold, or mildew—such as a darkened area—over a large area (more than 4 square feet). You probably see water.

Level 3: On one or more walls, you estimate that a large portion—50% of the surface—has been substantially saturated or damaged by water, mold, or mildew. You see cracks, moist areas, mold, or flaking. The wall surface may have failed.

-OR-

In any one unit, you estimate that more than 50% of the walls shows Level 1 damage from stains, mold, or mildew.

Comments

Level 3: If the condition is a health and safety concern, you must record it manually in “Health and Safety: Air Quality.”

Windows (Unit)

Window systems provide light, security, and exclusion of exterior noise, dust, heat, and cold. Frame materials include wood, aluminum, and vinyl.

This inspectable item can have the following deficiencies:

Cracked/Broken/Missing Panes

Damaged Window Sill

Inoperable/Not Lockable

Missing/Deteriorated Caulking/Seals

Peeling/Needs Paint

Security Bars Prevent Egress

Cracked/Broken/Missing Panes (Windows)

Deficiency: A glass pane is cracked, broken, or missing from the window sash.

Level of Deficiency:

Level 1: You see a cracked window pane.

Level 2: N/A

Level 3: You see that a window pane is broken or missing from the window sash.

Damaged Window Sill (Windows)

Deficiency: The sill-the horizontal part of the window that bares the upright portion of the frame—is damaged.

Note: When looking for damage to window sills, do not include scratches and cosmetic deficiencies.

Level of Deficiency:

Level 1: A sill is damaged, but still there. The inside of a surrounding wall is not exposed, and you see no impact on the operation or functioning of the window or on its weather tightness.

Level 2: A sill is missing or damaged enough to expose the inside of the surrounding walls and compromise its weather tightness.

Level 3: N/A

Inoperable/Not Lockable (Windows)

Deficiency: A window cannot be opened or closed because of damage to the frame, faulty hardware, or another cause.

Note:

1. If a window is not designed to lock, do not record this as a deficiency.

2. Windows that are accessible from the outside—a ground level window, for example—must be lockable.

Level of Deficiency:

Level 1: A window is not functioning, but can be secured. Other windows in the immediate area are functioning.

Level 2: N/A

Level 3: A window is not functioning, but cannot be secured. In the immediate area, there are not other windows that are functioning properly.

Missing/Deteriorated Caulking/Seals (Windows)

Deficiency: The caulking or seals that resists weather is missing or deteriorated.

Note:

1. This includes Thermopane and insulated windows that have failed.

2. Caulk and seals are considered to be deteriorated when two or more seals for any window have lost their elasticity. (If the seals crumble and flake when touched, they have lost their elasticity.)

Level of Deficiency:

Level 1: N/A

Level 2: Most of the window shows missing or deteriorated caulk, but there is no evidence of damage to the window or surrounding structure.

Level 3: There are missing or deteriorated caulk or seals—with evidence of leaks or damage to the window or surrounding structure.

Peeling/Needs Paint (Windows)

Deficiency: Paint covering the window assembly or trim is cracking, flaking, or otherwise failing.

Level of Deficiency:

Level 1: You see peeling paint or a window that needs paint.

Level 2: N/A

Level 3: N/A

Security Bars Prevent Egress (Windows)

Deficiency: Exiting by window is severely limited or impossible because security bars are damaged or improperly constructed or installed.

Note: This does not include windows that were not designed for exiting.

Level of Deficiency:

Level 1: N/A

Level 2: N/A

Level 3: Security bars are not functioning as they should, limiting the ability to exit through the window and posing safety risks.

Health and Safety Inspectable Items

Items to inspect for “Health and Safety” are as follows:

• Air Quality

• Electrical Hazards

• Elevator

• Emergency/Fire Exits

• Flammable Materials

• Garbage and Debris

• Hazards

• Infestation

Air Quality (Health and Safety)

Indoor/Outdoor spaces must be free from high levels of sewer gas, fuel gas, mold, mildew, or other harmful pollutants. Indoors must have adequate ventilation.

The following deficiencies can be noted:

Mold and/or Mildew Observed

Propane/Natural Gas/Methane Gas Detected

Sewer Odor Detected

Mold and/or Mildew Observed (Air Quality)

Deficiency: You see evidence of mold or mildew, especially in bathrooms and air outlets.

Propane/Natural Gas/Methane Gas Detected (Air Quality)

Deficiency: You detect strong propane, natural gas, or methane gas odors that could:

—pose a risk of explosion/fire

—pose a health risk if inhaled

Sewer Odor Detected (Air Quality)

Deficiency: You detect sewer odors that could pose a health risk if inhaled for prolonged periods.

Electrical Hazards (Health and Safety)

Any hazard that poses a risk of electrical fires, electrocution, or spark/explosion.

The following deficiencies can be noted:

Exposed Wires/Open Panels

Water Leaks On or Near Electrical Equipment

Exposed Wires/Open Panels (Electrical Hazards)

Deficiency: You see exposed bare wires or openings in electrical panels.

Note: If the accompanying authority has identified abandoned wiring, capped wires do not pose a risk and should not be recorded as a deficiency.

Water Leaks On or Near Electrical Equipment (Electrical Hazards)

Deficiency: You see water leaking, puddling, or ponding on or immediately near any electrical apparatus. This could pose a risk of fire, electrocution, or explosion.

Elevator (Health and Safety)

Vertical conveyance system for moving personnel, equipment, materials, household goods, etc.

The following deficiency can be noted:

Tripping

Tripping (Elevator)

Deficiency: An elevator is misaligned with the floor by more than ¾ inch. The elevator does not level as it should, which causes a tripping hazard.

Emergency/Fire Exits (Health and Safety)

All buildings must have acceptable fire exits that are also properly marked and operational. (This would include fire towers, stairway access doors, & external exits.). These can include operable windows on the lower floors with easy access to the ground or a back door opening onto a porch with a stairway leading to the ground.

Note: This does not apply to individual units.

The following deficiencies can be noted:

Blocked/Unusable

Missing Exit Signs

Blocked/Unusable (Emergency/Fire Exits)

Deficiency: The exit cannot be used or exit is limited because a door or window is nailed shut, a lock is broken, panic hardware is chained, debris, storage, or other conditions.

Missing Exit Signs (Emergency/Fire Exits)

Deficiency:

—Exit signs that clearly identify all emergency exits are missing.

-OR-

—There is no illumination in the area of the sign.

Flammable Materials (Health and Safety)

Any substance that is either known to be combustible or flammable or is stored in a container identifying it as such.

The following deficiency can be noted:

Improperly Stored

Improperly Stored (Flammable Materials)

Deficiency: Flammable materials are improperly stored, causing the potential risk of fire or explosion.

Garbage and Debris (Health and Safety)

Accumulation of garbage and debris exceeding the capacity of the storage area or not stored in an area sanctioned for such use.

The following deficiencies can be noted:

Indoors

Outdoors

Indoors (Garbage and Debris)

Deficiency:

—Too much garbage has gathered, more than the planned storage capacity.

-OR-

—Garbage has gathered in an area that is not sanctioned for staging or storing garbage or debris.

Note: This does not include garbage and debris improperly stored outside. For this deficiency, see Garbage and Debris—Outdoors.

Outdoors (Garbage and Debris)

Deficiency:

—Too much garbage has gathered—more than the planned storage capacity.

-OR-

—Garbage has gathered in an area not sanctioned for staging or storing garbage or debris.

Note: This does not include garbage improperly stored indoors. For this deficiency, see Garbage and Debris—Indoors.

Hazards (Health and Safety)

Physical hazards that pose risk of bodily injury.

The following deficiencies can be noted:

Other

Sharp Edges

Tripping

Other (Hazards)

Deficiency: If you see any general defects or hazards that pose risk of bodily injury, you must note them.

Note: This includes hazards that are not specifically defined elsewhere.

Sharp Edges (Hazards)

Deficiency: You see any physical defect that could cause cutting or breaking human skin or other bodily harm—generally in commonly used or traveled areas.

Tripping (Hazards)

Deficiency: You see any physical defect that poses a tripping risk, generally in walkways or other traveled areas.

Note: This does not include tripping hazards from elevators that do not level properly. For this deficiency, see Elevator—Tripping under Health and Safety.

Infestation (Health and Safety)

Presence of rats, or severe infestation by mice or insects such as roaches or termites.

The following deficiencies can be noted:

Insects

Rats/Mice/Vermin

Insects (Infestation)

Deficiency: You see evidence of infestation of insects—including roaches and ants—throughout a unit or room, especially in food preparation and storage areas.

Note:

1. This does not include infestation from rats/mice. For this deficiency, see Infestation—Rats/Mice/Vermin under Health and Safety.

2. If you see baits, traps, and sticky boards that show no presence of insects, do not record this as a deficiency.

Rats/Mice/Vermin (Infestation)

Deficiency: You see evidence of rats or mice—sightings, rat or mouse holes, or droppings.

Note:

1. This does not include infestation from insects. For this deficiency, see Infestation—Insects under Health and Safety.

2. If you see baits, traps, or sticky boards that show no presence of vermin, do not record this as a deficiency.

[FR Doc. 01-29266 Filed 11-23-01; 8:45 am]

BILLING CODE 4210-33-P